DEPARTMENT OF COMMERCE

National Oceanic and Atmospheric Administration

[Docket No. 080626787-8788-01]

RIN 0648-ZB96

Availability of Grant Funds for Fiscal Year 2009

AGENCY: National Oceanic and Atmospheric Administration (NOAA), Commerce.

ACTION: Notice.

SUMMARY: The National Oceanic and Atmospheric Administration (NOAA) publishes this notice to provide the general public with a consolidated source of program and application information related to its competitive grant and cooperative agreement (CA) award offerings for fiscal year (FY) 2009. This Omnibus notice is designed to replace the multiple Federal Register notices that traditionally advertised the availability of NOAA's discretionary funds for its various programs. It should be noted that additional program initiatives unanticipated at the time of the publication of this notice may be announced through subsequent Federal Register notices. All announcements will also be available through the Grants.gov Web site.

DATES: Proposals must be received by the date and time indicated under each program listing in the SUPPLEMENTARY INFORMATION section of this notice.

ADDRESSES: Proposals must be submitted to the addresses listed in the SUPPLEMENTARY INFORMATION section of this notice for each program. The Federal Register and Full Funding Opportunity (FFO) notices may be found on the Grants.gov Web site. The URL for Grants.gov is http://www.grants.gov.

FOR FURTHER INFORMATION CONTACT: Please contact the person listed within this notice as the information contact under each program.

SUPPLEMENTARY INFORMATION: Applicants must comply with all requirements contained in the Federal Funding Opportunity announcement for each of the programs listed in this omnibus notice. These Federal Funding Opportunities are available at http://www.grants.gov. The list of entries below describe the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

Table of Contents

I. Background

II. Electronic Access

III. NOAA Project Competitions

National Marine Fisheries Service (NMFS)

1. FY 2009 Monkfish Research Set-Aside

2. FY 2009 Sea Scallop Research Set-Aside

3. Cooperative Research Program

4. FY 2009 B-WET Chesapeake

5. FY 2009 Open Rivers Initiative

6. FY 2009 Atlantic Salmon Conservation Grants

7. FY 2009 Community-based Marine Debris Prevention and Removal

Project Grants

8. Marine Fisheries Initiative (MARFIN)

9. NOAA General Coral Reef Conservation Grants Program

10. Projects to Improve or Amend Coral Reef Fishery Management Plans

11. Protected Species Cooperative Conservation

12. Saltonstall-Kennedy Grant Program (FY 2009)

13. Prescott 2009

National Ocean Service (NOS)

1. FY 2009 CRCP Coral Reef Ecosystem Monitoring

2. FY 2009 CRCP-Coral Reef Management

3. Bay Watershed Education and Training (B-WET) Hawaii Program

4. CSCOR FY 2009 NGOMEX and CRES

5. FY 2009 California Bay Watershed Education and Training Program

6. International Coral

7. NOAA's National Height Modernization Program

8. National Coastal and Estuarine Research and Technology Program

9. National Estuarine Research Reserve Graduate Research Fellowship Program FY 2009

10. National Estuarine Research Reserve Land Acquisition and Construction Program FY 2009

Oceanic and Atmospheric Research (OAR)

1. Climate Program Office for FY 2009

2. FY 2009 NMFS-Sea Grant Fellowships in Marine Resource Economics

3. FY 2009 NMFS-Sea Grant Fellowships in Population Dynamics

4. FY 2010 Dean John A. Knauss Marine Policy Fellowship (Knauss Fellowship Program)

5. FY 2009 Joint Hurricane Testbed

6. FY 2009 Ocean Exploration Omnibus—Education

7. FY 2009 Ocean Exploration Omnibus—Marine Archaeology

8. FY 2009 Ocean Exploration Omnibus—Ocean Exploration

IV. NOAA Project Competitions Listed by NOAA Mission Goals

1. Protect, Restore and Manage the Use of Coastal and Ocean Resources Through Ecosystem-Based Management

Summary Description: Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world.

Funded proposals should help achieve the following outcomes:

• Healthy and productive coastal and marine ecosystems that benefit society

• A well-informed public that acts as a steward of coastal and marine ecosystems

Program Names:

1. FY 2009 CRCP-Coral Reef Management

2. Bay Watershed Education and Training (B-WET) Hawaii Program

3. Cooperative Research Program

4. Marine Fisheries Initiative (MARFIN)

5. National Estuarine Research Reserve Land Acquisition and Construction Program FY 2009

6. National Estuarine Research Reserve Graduate Research Fellowship Program FY 2009

7. International Coral

8. CSCOR FY09 NGOMEX and CRES

9. FY 2009 California Bay Watershed Education and Training Program

10. FY 2009 Ocean Exploration Omnibus—Marine Archaeology

11. FY 2009 Sea Scallop Research Set-Aside

12. FY 2009 CRCP Coral Reef Ecosystem Monitoring

13. NOAA's National Height Modernization Program

14. FY 2009 Monkfish Research Set-Aside

15. Protected Species Cooperative Conservation

16. FY 2009 Ocean Exploration Omnibus—Ocean Exploration

17. FY 2009 Ocean Exploration Omnibus—Education

18. FY 2009 B-WET Chesapeake

19. National Coastal and Estuarine Research and Technology Program

20. NOAA General Coral Reef Conservation Grants Program

21. FY 2009 Open Rivers Initiative

22. FY 2009 Community-based Marine Debris Prevention and Removal Project Grants

23. Projects to Improve or Amend Coral Reef Fishery Management Plans

24. FY 2009 Atlantic Salmon Conservation Grants

25. FY 2010 Dean John A. Knauss Marine Policy Fellowship (Knauss Fellowship Program)

26. FY 2009 NMFS-Sea Grant Fellowships in Population Dynamics

27. FY 2009 NMFS-Sea Grant Fellowships in Marine Resource Economics

28. Prescott 2009

2. Understand Climate Variability and Change To Enhance Society's Ability To Plan and Respond

Summary Description: Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy-property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

• A predictive understanding of the global climate system on time scales of weeks to decades with quantified uncertainties sufficient for making informed and reasoned decisions.

• Climate-sensitive sectors and the climate-literate public effectively incorporating NOAA's climate products into their plans and decisions.

Program Names:

1. Bay Watershed Education and Training (B-WET) Hawaii Program

2. Climate Program Office for FY 2009

3. FY 2009 Ocean Exploration Omnibus—Marine Archaeology

4. FY 2009 Ocean Exploration Omnibus—Ocean Exploration

5. FY 2009 Ocean Exploration Omnibus—Education

6. FY 2010 Dean John A. Knauss Marine Policy Fellowship (Knauss Fellowship Program)

3. Provide Critical Support for NOAA's Mission

Summary Description: Strong, effective, and efficient support activities are necessary for us to achieve our Mission Goals. Our facilities, ships, aircraft, environmental satellites, data processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies. NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology. Leadership development and program support are essential for achieving our Mission Goals. We must also commit to organizational excellence through management and leadership across a “corporate” NOAA. We must continue our commitment to valuing NOAA's diverse workforce, including effective workforce planning strategies designed to attract, retain and develop competencies at all levels of our workforce. Through the use of business process re-engineering, we will strive for state-of-the-art, value-added financial and administrative processes. NOAA will ensure state-of-the-art and secure information technology and systems. By developing long-range, comprehensive facility planning processes, NOAA will be able to ensure right-sized, cost-effective, and safe facilities.

Funded proposals should help achieve the following outcomes:

• A dynamic workforce with competencies that support NOAA's mission today and in the future.

Program Names:

1. Saltonstall-Kennedy Grant Program (FY 2009)

2. FY 2010 Dean John A. Knauss Marine Policy Fellowship (Knauss Fellowship Program)

4. Support the Nation's Commerce With Information for Safe, Efficient, and Environmentally Sound Transportation

Summary Description: Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather related air-traffic delays. Improved surface weather forecasts and specific user warnings would reduce the 7,000 weather related fatalities and 800,000 injuries that occur annually from crashes on roads and highways. The injuries, loss of life, and property damage from weather-related crashes cost an average of $42 billion annually. We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

• Safe, secure, efficient, and seamless movement of goods and people in the U.S. transportation system

• Environmentally sound development and use of the U.S. transportation system.

Program Names:

1. NOAA's National Height Modernization Program

2. FY 2010 Dean John A. Knauss Marine Policy Fellowship (Knauss Fellowship Program)

5. Serve Society's Needs for Weather and Water Information

Summary Description: Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and nongovernmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

• Reduced loss of life, injury, and damage to the economy

• Better, quicker, and more valuable weather and water information to support improved decisions

• Increased customer satisfaction with weather and water information and services

Program Names:

1. FY 2009 Joint Hurricane Testbed

2. FY 2010 Dean John A. Knauss Marine Policy Fellowship (Knauss Fellowship Program)

V. NOAA Non-competitive Opportunity

I. Background

Each of the following grant opportunities provide: A description of the program, funding availability, statutory authority, catalog of federal domestic assistance (CFDA) number, application deadline, address for submitting proposals, information contacts, eligibility requirements, cost sharing requirements, and intergovernmental review under Executive Order 12372.

In addition, this notice announces information related to a non-competitive financial assistance project to be administered by NOAA. This project is titled “NOAA Coral Reef Conservation Grant Program—Coral Reef Ecosystem Research Grants”. The NOAA Coral Reef Conservation Grant Program announces that it is providing funding to the NOAA Undersea Research Program (NURP) Centers for: The Southeastern U.S., Florida, and Gulf of Mexico Region, the Southeast U.S. and Gulf of Mexico Center; and the Hawaii and Western Pacific Region, the Hawaii Undersea Research Laboratory, to administer two external, competitive coral reef ecosystem research grants programs. To receive an award for this project, an eligible applicant must submit a complete and responsive application to the appropriate program office. An award is made upon conclusion of the evaluation process for the prospective project.

II. Electronic Access

The FFO for each program is available via the Grants.gov Web site at: http://www.grants.gov. Electronic applications for the NOAA Programs listed in this announcement may be accessed, downloaded, and submitted to that Web site. The due dates and times for paper and electronic submissions are identical. NOAA strongly recommends that you do not wait until the application deadline to begin the application process through Grants.gov.

Grants.gov

Getting started with Grants.gov is easy. Users should note that there are two key features on the Web site: Find Grant Opportunities and Apply for Grants. The site is designed to support these two features and your use of them.

While you can begin searching for grant opportunities immediately, it is recommended that you complete the steps to Get Started (below) ahead of time. This will help ensure you are ready to go when you find an opportunity for which you would like to apply.

Applications From Individuals

In order for you to apply as an individual, the announcement must specify that the program is open to individuals and it must be published on the Grants.gov Web site. Individuals must register with the Credential Provider (see Step 3 below) and with Grants.gov (see Step 4 below).

Individuals do not need a DUNS number to register (see Step 4 below) and submit their applications. The system will generate a default value in that field.

Grants.gov Application Submission and Receipt Procedures

This section provides the application submission and receipt instructions for NOAA program applications. Please read the following instructions carefully and completely.

1. Electronic Delivery. NOAA is participating in the Grants.gov Initiative, which provides the Grant Community a single site to find and apply for grant funding opportunities. NOAA encourages applicants to submit their applications electronically through: http://www.grants.gov/applicants/apply_for_grants.jsp.

2. The following describes what to expect when applying online using Grants.gov/Apply:

a. Instructions. On the site, you will find step-by-step instructions, which enable you to apply for NOAA funds. The Grants.gov/Apply feature includes a simple, unified application process that makes it possible for applicants to apply for grants online. There are six “Get Started” steps to complete at Grants.gov. The information applicants need to understand and execute the steps can be found at: http://www.grants.gov/applicants/get_registered.jsp. Applicants should read the Get Started steps carefully. The site also contains registration checklists to help you walk through the process. NOAA recommends that you download the checklists and prepare the information requested before beginning the registration process. Reviewing and assembling required information before beginning the registration process will make the process fast and smooth and save time.

b. DUNS Requirement. All applicants applying for funding, including renewal funding, must have a Dun and Bradstreet Universal Data Numbering System (DUNS) number. The DUNS number must be included in the data entry field labeled “Organizational Duns” on the form SF-424. Instructions for obtaining a DUNS number can be found at the following Web site: http://www.grants.gov/applicants/get_registered.jsp.

c. Central Contractor Registry and Credential Provider Registration. In addition to having a DUNS number, applicants applying electronically through Grants.gov must register with the Federal Central Contractor Registry and with a Credential Provider. The http://www.grants.gov Web site at http://www.grants.gov/applicants/get_registered.jsp provides step-by-step instructions for registering in the Central Contractor Registry and for registering with a credential provider. All applicants filing electronically must register with the Central Contractor Registry and receive credentials from the Grants.gov credential provider in order to apply online. Failure to register with the Central Contractor Registry and credential provider will result in your application being rejected by the Grants.gov portal.

The registration process is a separate process from submitting an application. Applicants are, therefore, encouraged to register early. The registration process can take approximately two weeks to be completed. Therefore, registration should be done in sufficient time to ensure it does not impact your ability to meet required submission deadlines. You will be able to submit your application online any time after you receive your e-authentication credentials.

d. Electronic Signature. Applications submitted through Grants.gov constitute submission as electronically signed applications. The registration and e-authentication process establishes the Authorized Organization Representative (AOR). When you submit the application through Grants.gov, the name of your authorized organization representative on file will be inserted into the signature line of the application. Applicants must register the individual who is able to make legally binding commitments for the applicant organization as the Authorized Organization Representative.

3. Instructions on how to submit an electronic application to NOAA via Grants.gov/Apply: Grants.gov has a full set of instructions on how to apply for funds on its Web site at http://www.grants.gov/applicants/apply_for_grants.jsp. The following provides simple guidance on what you will find on the Grants.gov/Apply site. Applicants are encouraged to read through the page entitled, “Complete Application Package” before getting started. Grants.gov allows applicants to download the application package, instructions and forms that are incorporated in the instructions, and work offline. In addition to forms that are part of the application instructions, there will be a series of electronic forms that are provided utilizing an Adobe Reader.

Note: For the Adobe Reader, Grants.gov is only compatible with versions 8.1.1 and above. Please do not use lower versions of the Adobe Reader. Mandatory Fields on Adobe Reader Forms: In the Adobe forms you will note fields that appear with a yellow background and red outline color. These fields are mandatory and must be completed to successfully submit your application.

Completion of SF-424 Fields: The Adobe forms are designed to fill in common required fields such as the applicant name and address, DUNS number, etc., on all Adobe electronic forms. To trigger this feature, an applicant must complete the SF-424 information first. Once it is completed the information will transfer to the other forms.

Customer Support. The Grants.gov Web site provides customer support via (800) 518-4726 (this is a toll-free number) or through e-mail at support@grants.gov. The Contact Center is open from 7 a.m. to 9 p.m. Eastern time, Monday through Friday, except federal holidays, to address Grants.gov technology issues. For technical assistance to program related questions, contact the number listed in the Program Section of the program you are applying for.

4. Timely Receipt Requirements and Proof of Timely Submission.

a. Electronic Submission. All applications must be received by http://www.grants.gov/applicants/apply_for_grants.jsp the due date established for each program. Proof of timely submission is automatically recorded by Grants.gov. An electronic time stamp is generated within the system when the application is successfully received by Grants.gov. The applicant will receive an acknowledgment of receipt and a tracking number from Grants.gov with the successful transmission of their application. Applicants should print this receipt and save it, along with facsimile receipts for information provided by facsimile, as proof of timely submission. When NOAA successfully retrieves the application from Grants.gov, Grants.gov will provide an electronic acknowledgment of receipt to the e-mail address of the AOR. Proof of timely submission shall be the date and time that Grants.gov receives your application. Applications received by Grants.gov after the established due date for the program will be considered late and will not be considered for funding by NOAA.

NOAA suggests that applicants submit their applications during the operating hours of the Contact Center for Grants.gov, so that if there are questions concerning transmission, operators will be available to walk you through the process. Submitting your application during the Contact Center hours will also ensure that you have sufficient time for the application to complete its transmission prior to the application deadline. Applicants using dial-up connections should be aware that transmission may take some time before Grants.gov receives it. Grants.gov will provide either an error or a successfully received transmission message. The Grants.gov reports that some applicants abort the transmission because they think that nothing is occurring during the transmission process. Please be patient and give the system time to process the application. Uploading and transmitting many files particularly electronic forms with associated XML schemas will take some time to be processed.

Evaluation Criteria and Selection Procedures

NOAA has standardized the evaluation and selection process for its competitive assistance programs. There are two separate sets of evaluation criteria and selection procedures (see below), one for project proposals, and the other for fellowship, scholarship, and internship programs.

Project Proposals

Review and Selection Process. Some project proposals may include a pre-application process that provides for feedback to applicants that responded to a call for letters of intent or pre-proposals; however, not all programs will include this pre-application. If a program has a pre-application process, it will be described in the Summary Description section of the announcement and the deadline will be specified in the Application Deadline section.

Upon receipt of a full application by NOAA, an initial administrative review will be conducted to determine compliance with requirements and completeness of the application. A merit review will also be conducted to produce a rank order of the proposals.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria

At least three technical reviewers will individually evaluate and rank proposals using the following evaluation criteria:

1. Importance and/or relevance and applicability of a proposed project to the program goals: This ascertains whether there is intrinsic value in the proposed work and/or relevance to NOAA, Federal (other than NOAA), regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The project's budget is evaluated to determine if it is realistic and commensurate with the project needs and timeframe.

5. Outreach and education: NOAA assesses whether this project provides a focused and effective education and outreach strategy regarding its mission to protect the Nation's natural resources.

Selection Factors. The merit review ratings will be used to provide a rank order to the Selecting Official for final funding recommendations. A Program Officer may first make recommendations to the Selecting Official applying the selection factors listed below. The Selecting Official shall award in rank order unless the proposal is justified to be selected out of rank order based upon one or more of the following factors:

1. Availability of funding.

2. Balance/distribution of funds:

a. Geographically,

b. By type of institutions,

c. By type of partners,

d. By research areas, and

e. By project types.

3. Whether the project duplicates other projects funded or considered for funding by NOAA or other federal agencies.

4. Program priorities and policy factors.

5. Applicant's prior award performance.

6. Partnerships and/or participation of targeted groups.

7. Adequacy of information necessary for NOAA to make a National Environmental Policy Act determination and draft necessary documentation before funding recommendations are made to the Grants Officer.

Fellowship, Scholarship and Internship Programs

Review and Selection Process: Some fellowship, scholarship and internship programs may include a pre-application process that provides for feedback to the applicants that have responded to a call for letters of intent or pre-proposals; however, not all programs will include this pre-application. If a program has a pre-application process, the process will be described in the Summary Description section of the announcement and the deadline will be specified in the Application Deadline section.

Upon receipt of a full application by NOAA, an initial administrative review will be conducted to determine compliance with requirements and completeness of the application. A merit review will also be conducted to produce a rank order of the proposals.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria

At least three technical reviewers will individually evaluate and rank proposals using the following evaluation criteria.

1. Academic record and statement of career goals and objectives of the student.

2. Quality of project and applicability to program priorities.

3. Recommendations and/or endorsements of the student.

4. Additional relevant experience related to diversity of education; extra-curricular activities; honors and awards; and interpersonal, written, and oral communications skills.

5. Financial need of the student.

Selection Factors

The merit review ratings will be used to provide a rank order by the Selecting Official for final funding recommendations. A Program Officer may first make recommendations to the Selecting Official by applying the selection factors listed below. The Selecting Official shall award in the rank order unless the proposal is justified to be selected out of rank order based upon one or more of the following factors:

1. Availability of funds.

2. Balance/distribution of funds:

a. Across academic disciplines,

b. By types of institutions, or

c. Geographically.

3. Program-specific objectives.

4. Degree in scientific area and type of degree sought.

III. NOAA Project Competitions

National Marine Fisheries Service (NMFS)

1. FY 2009 Monkfish Research Set-Aside

Summary Description: NMFS announces that the New England and Mid-Atlantic Fishery Management Councils (Councils) have set aside 500 monkfish days-at-sea (DAS) to be used for research endeavors under a research set-aside (RSA) program. NMFS is soliciting proposals for research activities concerning the monkfish fishery for fishing year 2009 (May 1, 2009-April 30, 2010). Through the allocation of research DAS, the Monkfish RSA Program provides a mechanism to reduce the cost for vessel owners to participate in cooperative monkfish research. The intent of this program is for fishing vessels to utilize these research DAS to conduct monkfish related research, rather than their allocated monkfish DAS, thereby eliminating any cost to the vessel associated with using a monkfish DAS. Landings from such research trips may be sold to generate funds to help defray research costs. No Federal funds are provided for research under this notification. Rather, projects funded under the Monkfish RSA Program would be provided with additional opportunity to harvest monkfish, and the catch sold to generate income to offset research costs. Projects funded under an RSA DAS award must enhance the knowledge of the monkfish fishery resource or contribute to the body of information on which management decisions are made. The Councils and NMFS will give priority to funding research proposals in the following general subject areas: (1) Cooperative research to supplement NMFS surveys; (2) life history studies on age and growth, longevity, reproduction, and natural mortality; (3) tagging and telemetry studies to investigate short- and long-term movements and habitat use; (4) research concerning bycatch and discard mortality of target and/or non-target species; (5) trawl and gillnet gear studies concerning size and/or species selectivity and bycatch reduction (including reducing bycatch of and interactions with protected species); and (6) research concerning trophic interactions of monkfish with other species. Please note that the research subject areas listed above are not listed in order of priority. Projects that follow up or expand on previous cooperative research are encouraged and will be given additional consideration, provided such research would enhance the utility of the initial work.

Funding Availability: No Federal funds are provided for research under this notification. Rather, projects selected under the Monkfish RSA Program would be provided with additional opportunity to harvest monkfish, and the catch sold to generate income to offset research costs. The Federal Government (i.e., NMFS) may issue an Exempted Fishing Permit (EFP), if needed, that may provide special fishing privileges in response to research proposals selected under this program. For example, vessels participating in an approved research project may be authorized by the Northeast Regional Administrator, NMFS, to harvest monkfish in excess of established possession limits. This would be the fourth year of the Monkfish RSA Program. Two awards were issued under the 2006 Monkfish RSA Program, with these projects ending in April 2007. Three awards were issued under the 2007 Monkfish RSA Program, with these projects recently ending April 2007. Four awards have been issued under the 2008 Monkfish RSA program, and these projects are expected to commence in May 2008. A total of 137.5 RSA DAS were issued to projects during FY 2006. A total of 367 RSA DAS were issued to projects for FY 2007. All of the 500 monkfish RSA DAS available thru the Monkfish RSA program have been issued to projects for FY 2009. It is anticipated that 2-5 awards will be made under the 2009 Monkfish RSA Program. Funds generated from landings harvested and sold under the Monkfish RSA Program shall be used to cover the cost of research activities, including vessel costs. For example, the funds may be used to pay for gear modifications, monitoring equipment, the salaries of research personnel, or vessel operation costs. The Federal Government shall not be liable for any costs incurred in the conduct of the project. Specifically, the Federal Government is not liable for any costs incurred by the researcher or vessel owner should the sale of catch not fully reimburse the researcher or vessel owner for his/her expenses. Any additional funds generated through the sale of set-aside landings, above the cost of the research activities, shall be retained by the vessel owner as compensation for the use of his/her vessel.

Statutory Authority: Statutory authority for this program is found under sections 303(b)(11), 402(e), and 404(c) of the Magnuson-Stevens Fishery Conservation and Management Act, 16 U.S.C. 1853(b)(11), 16 U.S.C. 1881a(e), and 16 U.S.C. 1881(c), respectively. The ability to set aside monkfish DAS for research purposes was established in the final rule implementing Amendment 2 to the Monkfish Fishery Management Plan (70 FR 21927, April 28, 2005), codified at 50 CFR 648.92(c).

Catalog of Federal Domestic Assistance (CFDA) Number: 11.454, Unallied Management Projects.

Application Deadline: Full proposals must be received by 5 p.m., Eastern Daylight Time, on September 9, 2008.

Address for Submitting Proposals: To apply for this NOAA Federal funding opportunity, please go to http://www.grants.gov, and use the following funding opportunity # NMFS-NEFSC-2009-2001478. Applicants without Internet access may contact Cheryl Corbett, NMFS, Northeast Fisheries Science Center, 166 Water Street, Woods Hole, MA 02543, by phone 508-495-2070, fax 508-495-2004, or e-mail ccorbett@noaa.gov.

Information Contacts: Information may be obtained from Paul Howard, Executive Director, New England Fishery Management Council (NEFMC), by phone 978-465-0492, or by fax 978-465-3116; Philip Haring, Senior Fishery Analyst, NEFMC, by phone 978-465-0492, or by e-mail at pharing@nefmc.org; or Cheryl Corbett, NMFS, Northeast Fisheries Science Center, phone 508-495-2070, fax 508-495-2004, or e-mail ccorbett@noaa.gov, or from Ryan Silva, NMFS, Northeast Regional Office, phone (978) 281-9326, fax (978) 281-9135, e-mail ryan.silva@noaa.gov.

Eligibility: 1. Eligible applicants include, but are not limited to, institutions of higher education, hospitals, other nonprofits, commercial organizations, individuals, State, local, and Native American tribal governments. Federal agencies and institutions are not eligible to receive Federal assistance under this notice. Additionally, employees of any Federal agency or Regional Fishery Management Council (Council) are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

Cost Sharing Requirements: None required.

Intergovernmental Review: Applicants will need to determine if their State participates in the intergovernmental review process. This information can be found at the following Web site: http://www.whitehouse.gov/omb/grants/spoc.html. This information will assist applicants in providing either a Yes or No response to Item 16 of the Application Form, SF-424, entitled “Application for Federal Assistance.”

2. FY 2009 Sea Scallop Research Set-Aside

Summary Description: NMFS requests scallop research proposals to utilize Atlantic sea scallop (scallop) total allowable catch (TAC) and Days-at-Sea (DAS) that have been set-aside by the New England Fishery Management Council (Council) to fund scallop research endeavors through the 2009 Atlantic Sea Scallop Research Set-Aside Program (Scallop RSA Program). NMFS is requesting proposals for research activities for FY 2009. No Federal funds are provided for research under this notification.

Rather, the Scallop RSA Program funds scallop research and compensates participating vessels through the sale of scallops harvested under the research set-aside quota. Priority will be given to scallop research proposals that investigate research priorities identified by the Council and detailed under the Program Priorities section of the FFO.

Funding Availability: No Federal funds are provided for sea scallop research under this notice. Funds are generated through the sale of set-aside scallops. The Federal government will issue Letters of Authorization (LOAs) that provide special fishing privileges in response to sea scallop research proposals selected to participate in the 2009 Scallop RSA Program. Funds generated from RSA landings shall be used to cover the cost of the research activities, including vessel costs, and to compensate vessels for expenses incurred during the collection of set-aside scallops. For example, these funds could be used to pay for gear modifications, monitoring equipment, additional provisions (e.g., fuel, ice, food for scientists) or the salaries of research personnel. The Federal Government is not liable for any costs incurred by the researcher or vessel owner. Any additional funds generated through the sale of set-aside scallops above the cost of the research activities, shall be retained by the vessel owner as compensation for the use of his/her vessel.

Statutory Authority: Statutory authority for this program is provided under sections 303(b)(11), 402(e), and 404(c) of the Magnuson-Stevens Fishery Conservation and Management Act, 16 U.S.C. 1853(b)(11), 16 U.S.C. 1881a(e), and 16 U.S.C. 1881(c), respectively. The ability to set aside scallop TAC and DAS and to establish parameters are found in the Joint Frameworks (69 FR 63460, November 2, 2004), and Amendment 10 (69 FR 35194, June 23, 2004) and Framework Adjustment 19 (73 FR 30790, May 29, 2008) to the Federal Atlantic Sea Scallop Fishery Management Plan (May 15, 1982).

Catalog of Federal Domestic Assistance (CFDA) Number: 11.454, Unallied Management Projects.

Application Deadline: Full proposals must be received by 5 p.m., Eastern Standard Time, on August 25, 2008.

Address for Submitting Proposals: To apply for this NOAA Federal funding opportunity, please go to http://www.grants.gov, and use the following funding opportunity # NMFS-NEFSC-2009-2001472. Applicants without Internet access may contact Cheryl Corbett, NMFS, Northeast Fisheries Science Center, 166 Water Street, Woods Hole, MA 02543, by phone 508-495-2070, fax 508-495-2004, or e-mail ccorbett@noaa.gov.

Information Contacts: Information may be obtained from Deirdre Boelke, New England Fishery Management Council, phone (978) 465-0492, fax (978) 465-3116, or e-mail dboelke@nefmc.org, from Cheryl Corbett, NMFS, Northeast Fisheries Science Center, phone 508-495-2070, fax 508-495-2004, or e-mail ccorbett@noaa.gov, or from Ryan Silva, NMFS, Northeast Regional Office, phone (978) 281-9326, fax (978) 281-9135, e-mail ryan.silva@noaa.gov.

Eligibility: 1. Eligible applicants include, but are not limited to, institutions of higher education, hospitals, other nonprofits, commercial organizations, individuals, state, local, and Native American tribal governments. Federal agencies and institutions are not eligible to receive Federal assistance under this notice. Additionally, employees of any Federal agency or Regional Fishery Management Council (Council) are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

Cost Sharing Requirements: None Required.

Intergovernmental Review: Applicants will need to determine if their State participates in the intergovernmental review process. This information can be found at the following Web site: http://www.whitehouse.gov/omb/grants/spoc.html. This information will assist applicants in providing either a Yes or No response to Item 16 of the Application Form, SF-424, entitled “Application for Federal Assistance.”

3. Cooperative Research Program

Summary Description: The CRP program provides financial assistance for projects that seek to increase and improve the working relationship between researchers from the NMFS, state fishery agencies, universities, and fishermen in the Gulf of Mexico and off the South Atlantic states of North Carolina, South Carolina, Georgia, and Florida involving the U.S. fishing industry (recreational and commercial). The program is a means of involving commercial and recreational fishermen in the collection of fundamental fisheries information. Collection efforts support the development and evaluation of management and regulatory options. This program addresses NOAA's mission goal to “Protect, Restore, and Manage the Use of Coastal and Ocean Resources Through an Ecosystem Approach to Management.”

Funding Availability: Approximately $2.0 million may be available in fiscal year (FY) 2009 for projects. Actual funding availability for this program is contingent upon Fiscal Year 2009 Congressional appropriations. The NMFS Southeast Regional Office estimates awarding projects that will range from $25,000 to $400,000. The average award is $150,000. Publication of this notice does not obligate NMFS to award any specific grant or cooperative agreement or any of the available funds.

Statutory Authority: Authority for the CRP is provided by the following: 15 U.S.C. 713c-3(d).

Catalog of Federal Domestic Assistance (CFDA) Number: 11.454, Unallied Management Projects.

Application Deadline: Applications must be received by 5 p.m., Eastern Daylight Time on September 9, 2008 to be considered for funding. Applications received after the deadline will be rejected/returned to the sender without further consideration.

Address for Submitting Proposals: Applications must be submitted through www.grants.gov, unless an applicant does not have Internet access. In that case, hard copies with original signatures may be sent to: National Marine Fisheries Service, State/Federal Liaison Branch, 263 13th Avenue South, St. Petersburg, FL 33701.

Information Contacts: For questions regarding the application process, you may contact: Robert Sadler, State/Federal Liaison Branch, (727) 824-5324, or Robert.Sadler@noaa.gov.

Eligibility: Eligible applicants may be institutions of higher education, nonprofits, commercial organizations, individuals, and state, local, and Indian tribal governments. Federal agencies or institutions are not eligible. Foreign governments, organizations under the jurisdiction of foreign governments, and international organizations are excluded for purposes of this solicitation since the objective of the CRP is to optimize research and development benefits from U.S. marine fishery resources. Applicants who are not commercial or recreational fisherman must have commercial or recreational fishermen participating in their project. There must be a written agreement with a fisherman describing the involvement in the project activity.

Cost Sharing Requirements: Cost-sharing is not required for this program.

Intergovernmental Review: Applications submitted by state and local governments are subject to the provisions of Executive Order 12372, Intergovernmental Review of Federal Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

4. FY 2009 B-WET Chesapeake

Summary Description: The Chesapeake B-WET grant program is a competitively based program that supports existing environmental education programs, fosters the growth of new programs, and encourages the development of partnerships among environmental education programs throughout the entire Chesapeake Bay watershed. Funded projects assist in meeting the Stewardship and Community Engagement goals of the Chesapeake 2000 Agreement. Projects chosen for award under this program support organizations that provide students meaningful watershed educational experiences and teachers related professional development opportunities related to the Chesapeake Bay watershed.

Funding Availability: This solicitation announces that approximately $3.5M may be available in FY 2009 in award amounts to be determined by the proposals and available funds. Funding is anticipated to maintain partnerships for up to 3 years duration, but is dependent on funding made available annually by Congress. Project proposals accepted for funding with a project period over one year do not have to compete for the additional years of funding. However, funding for the additional years is contingent upon the availability of funds and satisfactory performance and is at the sole discretion of the agency. 1. Approximately $2.5M of the $3.5M available in FY 2009 will be for exemplary programs that successfully integrate teacher professional development on the Chesapeake Bay watershed with in-depth classroom study and outdoor experiences for their students. 2. Approximately $500K of the $3.5M available in FY 2009 will be for proposals that provide opportunities either for students to participate in MWEEs related to Chesapeake Bay or related Professional Development for teachers. 3. Approximately $500K of the $3.5M available in FY 2009 will be for proposals that incorporate CBIBS into meaningful watershed educational experiences for students or related professional development for teachers. The NCBO anticipates that typical awards for B-WET Exemplar Programs that successfully integrate teacher professional development with in-depth classroom student and outdoor experiences for their students will range from $50,000 to $200,000. Projects that represent either meaningful watershed educational experiences for students or teacher professional development in watershed education will range from $25,000 to $75,000. Projects focusing on the Chesapeake Bay Interpretive Buoy system will range from $25,000 to $200,000. Actual funding availability for this program is contingent upon Fiscal Year 2009 Congressional appropriations. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 33 U.S.C. 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

Catalog of Federal Domestic Assistance (CFDA) Number: 11.457, Chesapeake Bay Studies.

Application Deadline: Proposals must be received by 5 p.m. eastern time on Friday, October 3, 2008.

Address for Submitting Proposals: Applications must be submitted through www.grants.gov, unless an applicant does not have Internet access. In that case, hard copies with original signatures may be sent to: Shannon Sprague, B-WET Program Manager, NOAA Chesapeake Bay Office, 410 Severn Avenue, Suite 107A, Annapolis, MD 21403

Information Contacts: Please visit the B-WET Web site for further information at: http://noaa.chesapeakebay.net/educationgrants.aspx or contact the NOAA Chesapeake Bay Office, 410 Severn Avenue, Suite 107A, Annapolis, MD 21403, or by phone at 410-267-5660. Potential applicants are also invited to contact the staff before submitting an application to discuss the applicability of partnership ideas to B-WET goals and objectives. B-WET contacts are as follows: Virginia/West Virginia: Ann Marie Chapman (annmarie.chapman@noaa.gov—757-627-3823), Maryland's Eastern Shore/Delaware: Doug Levin (doug.levin@noaa.gov—410-226-5193), Maryland (other than Eastern Shore)/Washington, DC: Kevin Schabow (kevin.schabow@noaa.gov—410-267-3145), Pennsylvania/New York: Shannon Sprague (shannon.sprague@noaa.gov—410-267-5664).

Eligibility: Eligible applicants are K-through-12 public and independent schools and school systems, institutions of higher education, community-based and nonprofit organizations, state or local government agencies, interstate agencies, and Indian tribal governments in the Chesapeake Bay watershed. The Department of Commerce/National Oceanic and Atmospheric Administration (DOC/NOAA) is strongly committed to broadening the participation of historically black colleges and universities, Hispanic serving institutions, tribal colleges and universities, and institutions that work in underserved areas. The NCBO encourages proposals involving any of the above institutions.

Cost Sharing Requirements: No cost sharing is required under this program, however, the NCBO strongly encourages applicants applying for either area of interest to share as much of the costs of the award as possible. Funds from other Federal awards may not be considered matching funds. The nature of the contribution (cash versus in-kind) and the amount of matching funds will be taken into consideration in the review process. Priority selection will be given to proposals that propose cash rather than in-kind contributions.

Intergovernmental Review: Applications under this program are subject to Executive Order 12372, Intergovernmental Review of Federal Programs.

5. FY 2009 Open Rivers Initiative

Summary Description: The NOAA Open Rivers Initiative (ORI) provides funding to catalyze the implementation of locally-driven projects to remove dams and other river barriers, in order to benefit living marine and coastal resources, particularly diadromous fish. Projects funded through the Open Rivers Initiative have strong on-the-ground habitat restoration components that foster economic, educational, and social benefits for citizens and their communities in addition to long-term ecological habitat improvements for NOAA trust resources. Through the ORI, NOAA provides funding and technical assistance for barrier removal projects. Proposals selected for funding through this solicitation will be implemented through a cooperative agreement. Funding of up to $7,000,000 is expected to be available for ORI Project Grants in FY 2009. The NOAA Restoration Center (RC) within the Office of Habitat Conservation will administer this grant initiative, and anticipates that typical awards will range from $50,000 to $250,000. Although a select few may fall outside of this range, project proposals requesting less than $30,000 or greater than $1,000,000 will not be accepted or reviewed.

Funding Availability: This solicitation announces that funding of up to $7,000,000 is expected to be available for Open Rivers Initiative Project Grants in FY 2009. Actual funding availability for this program is contingent upon Fiscal Year 2009 Congressional appropriations. NOAA anticipates that typical project awards will range from $50,000 to $250,000; proposals requesting less than $30,000 or more than $1,000,000 will not be accepted under this solicitation. NOAA does not guarantee that sufficient funds will be available to make awards for all proposals. The number of awards to be made as a result of this solicitation will depend on the number of eligible applications received, the amount of funds requested by the applicants, the merit and ranking of the proposals, and the amount of funds made available to the ORI by Congress. NOAA anticipates that between 10 and 20 awards will be made as a result of this solicitation. The exact amount of funds that may be awarded will be determined in pre-award negotiations between the applicant and NOAA representatives. Publication of this document does not obligate NOAA to award any specific project or obligate all or any parts of any available funds.

Statutory Authority: The Secretary of Commerce is authorized under the Fish and Wildlife Coordination Act, 16 U.S.C. 661, as amended by the Reorganization Plan No. 4 of 1970, to provide grants or cooperative agreements for fisheries habitat restoration. The Secretary of Commerce is also authorized under the Magnuson-Stevens Fishery Conservation and Management Reauthorization Act of 2006 (H.R. 5946) to provide funding and technical expertise for fisheries and coastal habitat restoration and to promote significant community support and volunteer participation in such activities.

Catalog of Federal Domestic Assistance (CFDA) Number: 11.463, Habitat Conservation.

Application Deadline: Applications must be submitted through www.grants.gov by 11:59 p.m. EDT, October 31, 2008. If an applicant does not have Internet access, hard copy applications with the SF-424 Form bearing an original, ink signature must be postmarked, or provided to a delivery service and documented with a receipt, by October 31, 2008. No facsimile or electronic mail applications will be accepted.

Address for Submitting Proposals: Applications must be submitted through www.grants.gov, unless an applicant does not have Internet access. In that case, hard copies with original signatures may be sent to: NOAA Restoration Center (F/HC3), Office of Habitat Conservation, NOAA Fisheries, 1315 East-West Highway, Rm. 14718, Silver Spring, MD 20910. ATTN: Open Rivers Initiative Project Applications.

Information Contacts: For further information contact Tisa Shostik (Tisa.Shostik@noaa.gov) or Melanie Gange (Melanie.Gange@noaa.gov) at (301) 713-0174. Potential applicants are invited to contact NOAA Restoration Center staff before submitting an application to discuss the applicability of project ideas to the goals and objectives of ORI. Additional information on the ORI can be found on the World Wide Web at http://www.nmfs.noaa.gov/habitat/restoration.

Eligibility: Eligible applicants are institutions of higher education, non-profits, industry and commercial (for profit) organizations, organizations under the jurisdiction of foreign governments, international organizations, and state, local and Indian tribal governments whose projects have the potential to benefit NOAA trust resources. Applications from federal agencies or employees of federal agencies will not be considered. Federal agencies are strongly encouraged to work with states, non-governmental organizations, national service clubs or youth corps organizations and others that are eligible to apply. The Department of Commerce/National Oceanic and Atmospheric Administration (DOC/NOAA) is strongly committed to broadening the participation of historically black colleges and universities, Hispanic-serving institutions, tribal colleges and universities, and institutions that work in under-served areas. The ORI encourages proposals from or involving any of the above institutions.

Cost Sharing Requirements: A major goal of the ORI will be to provide seed money for projects that leverage funds and other contributions from a broad public and private sector to implement locally important barrier removals to benefit living marine and coastal resources. To this end, applicants are encouraged to demonstrate a 1:1 non-federal match for ORI funds requested to conduct the proposed project. NOAA strongly encourages applicants to leverage as much investment as possible. Applicants with less than 1:1 match will not be disqualified. However, applicants should note that cost sharing is an element considered in Evaluation Criterion #4 “Project Costs” (Section V.A.4.) in the FFO. Matching funds can come from a variety of public and private sources and can include in-kind goods and services and volunteer labor. Applicants are permitted to combine contributions from non-federal partners, as long as such contributions are not being used to match any other funds and are available within the project period stated in the application. Federal sources cannot be considered for matching funds, but can be described in the budget narrative to demonstrate additional leverage. Applicants are also permitted to apply federally negotiated indirect costs in excess of federal share limits as described in Section IV. E. 2. “Indirect Costs” of the FFO. Applicants whose proposals are selected for funding will be bound by the percentage of cost sharing reflected in the award document signed by the NOAA Grants Officer. Successful applicants should be prepared to carefully document matching contributions, including the overall number of volunteers and in-kind participation hours devoted to individual barrier removal projects. Letters of commitment for any secured resources that will be used as match for an award under this solicitation should be submitted as an attachment to the application, see Section IV.B of the FFO.

Intergovernmental Review: Applications under this initiative are subject to the provisions of Executive Order 12372, “Intergovernmental Review of Federal Programs.” Any applicant submitting an application for funding is required to complete item 16 on SF-424 regarding clearance by the State Single Point of Contact (SPOC) established as a result of EO 12372. To find out about and comply with a state's process under EO 12372, the names, addresses and phone numbers of participating SPOCs are listed in the Office of Management and Budget's home page at: http://www.whitehouse.gov/omb/grants/spoc.html.

6. FY 2009 Atlantic Salmon Conservation Grants

Summary Description: NOAA Atlantic Salmon Conservation Grants provide funding to catalyze the implementation of locally driven projects that address priority needs for Atlantic salmon recovery and restoration. Through these grants, NOAA provides funding and technical assistance to support restoration of habitat connectivity and function for the benefit of Atlantic salmon within their current and historical range in New England. Funded projects have strong on-the-ground habitat restoration or protection components that lead to long-term ecological habitat improvements for Atlantic salmon, and also provide educational and social benefits related to Atlantic salmon conservation for citizens and their communities. Proposals selected for funding through this solicitation will be implemented through a cooperative agreement. The Atlantic Salmon Conservation Grants initiative is collaboratively managed by the NOAA Northeast Regional Office and the Office of Habitat Conservation. The NOAA Restoration Center (RC) within the Office of Habitat Conservation will administer the grant competition. Funding of up to $2,500,000 is expected to be available for Atlantic Salmon Conservation Grants in FY 2009. Typical awards will range from $50,000 to $250,000. Although a select few may fall outside of this typical award range, project proposals requesting less than $30,000 or more than $500,000 will not be accepted or reviewed.

Funding Availability: This solicitation announces that funding of up to $2,500,000 is expected to be available for the Atlantic Salmon Conservation Grants in FY 2009. Actual funding availability for this solicitation is contingent upon Fiscal Year 2009 Congressional appropriations. NOAA anticipates that typical project awards will range from $50,000 to $250,000; proposals requesting less than $30,000 or more than $500,000 will not be accepted under this solicitation. NOAA anticipates that between 25 and 40 awards will be made as a result of this solicitation. The exact amount of funds that may be awarded will be determined in pre-award negotiations between the applicant and NOAA representatives. Publication of this document does not obligate NOAA to award any specific project or obligate all or any parts of any available funds.

Statutory Authority: The Secretary of Commerce is authorized under the Fish and Wildlife Coordination Act, 16 U.S.C. 661, as amended by the Reorganization Plan No. 4 of 1970, to provide grants or cooperative agreements for fisheries habitat restoration. The Secretary of Commerce is also authorized under the Magnuson-Stevens Fishery Conservation and Management Reauthorization Act of 2006 (H.R. 5946) to provide funding and technical expertise for fisheries and coastal habitat restoration and to promote significant community support and volunteer participation in such activities.

Catalog of Federal Domestic Assistance (CFDA) Number: 11.463, Habitat Conservation.

Application Deadline: Applications must be submitted through www.grants.gov by 11:59 p.m. EDT, November 14, 2008. If an applicant does not have Internet access, hard copy applications with the SF-424 Form bearing an original, ink signature must be postmarked, or provided to a delivery service and documented with a receipt, by November 14, 2008. No facsimile or electronic mail applications will be accepted.

Address for Submitting Proposals: Applications must be submitted through www.grants.gov, unless an applicant does not have Internet access. In that case, hard copies with original signatures may be sent to: NOAA Restoration Center (F/HC3), Office of Habitat Conservation, NOAA Fisheries, 1315 East-West Highway, Rm. 14727, Silver Spring, MD 20910. ATTN: Atlantic Salmon Conservation Grant Applications.

Information Contacts: For further information contact Cathy Bozek (Cathy.Bozek@noaa.gov) or Craig Woolcott (Craig.Woolcott@noaa.gov) at (301) 713-0174. Potential applicants are invited to contact NOAA staff before submitting an application to discuss the applicability of project ideas to the goals and objectives of the grant solicitation.

Eligibility: Eligible applicants are institutions of higher education, other non-profits, industry and commercial (for profit) organizations, organizations under the jurisdiction of foreign governments, international organizations, and state, local and Indian tribal governments whose projects have the potential to benefit NOAA trust resources. Applications from federal agencies or employees of federal agencies will not be considered. Federal agencies are strongly encouraged to work with states, non-governmental organizations, national service clubs or youth corps organizations and others that are eligible to apply. The Department of Commerce/National Oceanic and Atmospheric Administration (DOC/NOAA) is strongly committed to broadening the participation of historically black colleges and universities, Hispanic-serving institutions, tribal colleges and universities, and institutions that work in under-served areas. NOAA encourages proposals from or involving any of the above institutions.

Cost Sharing Requirements: A major goal of this grant solicitation will be to provide seed money for projects that leverage funds and other contributions from a broad segment of the public and private sector to implement locally important habitat restoration projects to benefit Atlantic salmon populations. To this end, applicants are encouraged to demonstrate a 1:1 non-federal match for NOAA funds requested to conduct the proposed project. NOAA strongly encourages applicants to leverage as much investment as possible, but applicants with little or no match will not be disqualified. Applicants should note that cost sharing is an element considered in Evaluation Criterion #4 “Project Costs” (Section V.A.4.) of the FFO; however matters related to the importance and scientific merits of the proposed project comprise the majority of the evaluation criteria. Match to NOAA funds can come from a variety of public and private sources and can include in-kind goods and services and volunteer labor.

Applicants are permitted to combine contributions from non-federal partners, as long as such contributions are not being used to match any other funds and are available within the project period stated in the application. Federal sources cannot be considered for matching funds, but can be described in the budget narrative to demonstrate additional leverage. Applicants are also permitted to apply federally negotiated indirect costs in excess of federal share limits as described in Section IV.E. “Funding Restrictions” of the FFO. Applicants whose proposals are selected for funding will be bound by the percentage of cost sharing reflected in the award document signed by the NOAA Grants Officer. Successful applicants should be prepared to carefully document matching contributions, including the overall number of volunteers and in-kind participation hours devoted to individual restoration projects. Letters of commitment for any secured resources that will be used as match for an award under this solicitation should be submitted as an attachment to the application, see Section IV.B of the FFO.

Intergovernmental Review: Applications under this initiative are subject to the provisions of Executive Order 12372, “Intergovernmental Review of Federal Programs.” Any applicant submitting an application for funding is required to complete item 16 on SF-424 regarding clearance by the State Single Point of Contact (SPOC) established as a result of EO 12372. To find out about and comply with a state's process under EO 12372, the names, addresses and phone numbers of participating SPOCs are listed in the Office of Management and Budget's home page at: http://www.whitehouse.gov/omb/grants/spoc.html.

7. FY 2009 Community-based Marine Debris Prevention and Removal Project Grants

Summary Description: The NOAA Marine Debris Program (MDP), authorized in the Marine Debris Research, Prevention, and Reduction Act (MDRPR Act, 33 U.S.C. 1951 et seq.), provides funding to catalyze the implementation of locally driven, community-based marine debris prevention, assessment and removal projects that will benefit coastal habitat, waterways, and NOAA trust resources. Projects funded through the MDP have strong on-the-ground habitat components involving the removal of marine debris and derelict fishing gear, as well as activities that provide social benefits for people and their communities in addition to long-term ecological habitat improvements for NOAA trust resources. Through this solicitation the MDP identifies marine debris prevention, assessment and removal projects, strengthens the development and implementation of habitat restoration through the removal of marine debris within communities, and fosters awareness of the effects of marine debris to further the conservation of living marine resource habitats across a wide geographic area. Proposals selected for funding through this solicitation will be implemented through a cooperative agreement. Funding of up to $2,000,000 is expected to be available for Community-based Marine Debris Prevention and Removal Project Grants in FY 2009. The NOAA MDP anticipates that typical awards will range from $15,000 to $150,000.

Funding Availability: This solicitation announces that funding of up to $2,000,000 is expected to be available for Community-based Marine Prevention and Removal Project Grants in FY 2009. Actual funding availability for this program is contingent upon Fiscal Year 2009 Congressional appropriations. The NOAA Restoration Center anticipates that typical project awards will range from $15,000 to $150,000; NOAA will not accept proposals for under $15,000 or proposals for over $250,000 under this solicitation. There is no guarantee that sufficient funds will be available to make awards for all proposals. The number of awards to be made as a result of this solicitation will depend on the number of eligible applications received, the amount of funds requested for initiating marine debris removal projects by the applicants, the merit and ranking of the proposals, and the amount of funds made available to the MDP by Congress. The NOAA Restoration Center anticipates that between 10 and 25 awards will be made as a result of this solicitation. The exact amount of funds that may be awarded will be determined in pre-award negotiations between the applicant and NOAA representatives. Publication of this document does not obligate NOAA to award any specific project or obligate all or any part of any available funds. In FY 2008, 10 applications were recommended for funding ranging from $39,000 to $175,000, for a total grant competition funding level of approximately $900,000. This is the fourth year of the Community-based Marine Debris Prevention and Removal Project Grants, a grant partnership between the NOAA Marine Debris Program and NOAA Restoration Center. These grants are funded through the NOAA Marine Debris Program with appropriations to the Office of Response and Restoration, National Ocean Service for this purpose. The NOAA Restoration Center will administer this grants program in the same manner that the Community-based Restoration Program is conducted.

Statutory Authority: The Administrator of the National Oceanic and Atmospheric Administration is authorized under the MDRPR Act to provide grants or cooperative agreements to identify, determine sources of, assess, reduce, and prevent marine debris and its adverse impacts on the marine environment and navigation safety.

Catalog of Federal Domestic Assistance (CFDA) Number: 11.463, Habitat Conservation.

Application Deadline: Applications must be submitted through www.grants.gov by 11:59 p.m. EDT, October 31, 2008. If an applicant does not have Internet access, hard copy applications with the SF-424 Form bearing an original, ink signature must be postmarked, or provided to a delivery service and documented with a receipt, by October 31, 2008. No facsimile or electronic mail applications will be accepted.

Address for Submitting Proposals: Applications must be submitted through www.grants.gov, unless an applicant does not have Internet access. In that case, hard copies with original signatures may be sent to: NOAA Restoration Center (F/HC3), Community-based Restoration Program, NOAA Fisheries, 1315 East-West Highway, Rm. 14727, Silver Spring, MD 20910. ATTN: MDP Project Applications.

Information Contacts: For further information contact David Landsman at 301-713-0174 or by e-mail at David.Landsman@noaa.gov.

Eligibility: Eligible applicants are institutions of higher education, other non-profits, commercial (for profit) organizations, organizations under the jurisdiction of foreign governments, international organizations, and state, local and Indian tribal governments whose projects have the potential to benefit NOAA trust resources. Applications from federal agencies or employees of federal agencies will not be considered. Federal agencies are strongly encouraged to work with states, non-governmental organizations, national service clubs or youth corps organizations and others that are eligible to apply. The Department of Commerce/National Oceanic and Atmospheric Administration (DOC/NOAA) is strongly committed to broadening the participation of historically black colleges and universities, Hispanic serving institutions, tribal colleges and universities, and institutions that work in under-served areas. The MDP encourages proposals involving any of the above institutions.

Cost Sharing Requirements: A major goal of the MDP is to provide seed money to projects that leverage funds and other contributions from a broad segment of the public and private sector to implement locally important marine debris prevention and removal activities to benefit living marine resources. To this end, the MDRPR Act requires applicants to demonstrate a minimum 1:1 non-Federal match for MDP funds requested to conduct the proposed project. In addition to formal match, NOAA strongly encourages applicants to leverage as much investment as possible. However, the MDRPR Act allows the Administrator to waive all or part of the matching requirement if the applicant can demonstrate that: (1) No reasonable means are available through which applicants can meet the matching requirement and (2) the probable benefit of such project outweighs the public interest in such matching requirement. In addition, the MDP may waive any requirement for matching funds by an Insular Area (Virgin Islands, Guam, American Samoa, the Trust Territory of the Pacific Islands, and the Government of the Northern Mariana Islands). Under 48 U.S.C. 10.1469a(d.ii.i), any department or agency may waive any requirement for matching funds otherwise required by law to be provided by the Insular Area involved. All applicants should note that cost sharing is an element considered in Evaluation Criterion #4, “Project Costs” of the FFO. Match can come from a variety of public and private sources and can include in-kind goods and services such as private boat use and volunteer labor. Applicants are permitted to combine contributions from non-federal partners, as long as such contributions are not being used to match any other funds and are available within the project period stated in the application. Federal sources cannot be considered for matching funds, but can be described in the budget narrative to demonstrate additional leverage. Applicants are permitted to combine contributions from multiple non-federal partners in order to meet the 1:1 match recommendation, as long as such contributions are not being used to match any other funds. Applicants are also permitted to apply federally negotiated indirect costs in excess of federal share limits as described in Section IV. E. 2. “Indirect Costs” of the FFO. Applicants should also note that the following activities, in general, will not be considered as match under project awards: (1) Activities that constitute legally required mitigation for the adverse effects of an activity regulated or otherwise governed by local, state or Federal law; (2) activities that constitute restoration for natural resource damages under Federal, state or local law; and (3) activities that are required by a separate consent decree, court order, statute or regulation. However, the MDRPR Act allows the Administrator to authorize, as appropriate, the non-Federal share of the cost of a project to include money paid pursuant to, or the value of any in-kind service performed under, an administrative order on consent or judicial consent decree that will remove or prevent marine debris. Applicants whose proposals are selected for funding will be bound by the percentage of cost sharing reflected in the award document signed by the NOAA Grants Officer. Successful applicants should be prepared to carefully document matching contributions, including the names of participating volunteers and the overall number of volunteer or community participation hours devoted to individual marine debris prevention or removal projects. Letters of commitment for any secured resources expected to be used as match for an award should be submitted as an attachment to the application.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

8. Marine Fisheries Initiative (MARFIN)

Summary Description: The National Marine Fisheries Service (NMFS), Southeast Region, is seeking proposals under the Marine Fisheries Initiative Program (MARFIN), for research and development projects that optimize the use of fisheries in the Gulf of Mexico and off the South Atlantic states of North Carolina, South Carolina, Georgia, and Florida involving the U.S. fishing industry (recreational and commercial), including fishery biology, resource assessment, socioeconomic assessment, management and conservation, selected harvesting methods, and fish handling and processing. This program addresses NOAA's mission goal to “Protect, Restore, and Manage the Use of Coastal and Ocean Resources Through an Ecosystem Approach to Management.”

Funding Availability: Approximately $2.0 million may be available in fiscal year (FY) 2009 for projects. This amount includes possible in-house projects. Actual funding availability for this program is contingent upon Fiscal Year 2009 Congressional appropriations. The NMFS Southeast Regional Office anticipates awarding projects that will range from $25,000 to $300,000. The average award is $150,000. Publication of this notice does not obligate NMFS to award any specific grant or cooperative agreement or any of the available funds. Project proposals accepted for funding with a project period over one year do not have to compete for the additional years of funding. However, funding for the additional years is contingent upon the availability of funds and satisfactory performance and is at the sole discretion of the agency.

Statutory Authority: Authority for the Marine Fisheries Initiative Program is provided by the following: 15 U.S.C. 713c-3(d).

Catalog of Federal Domestic Assistance (CFDA) Number: 11.433, Marine Fisheries Initiative.

Application Deadline: Applications must be received by 5 p.m., Eastern Daylight Time on August 11, 2008 to be considered fur funding. Applications received after the deadline will be rejected/returned to the sender without further consideration.

Address for Submitting Proposals: Applications must be submitted through www.grants.gov, unless an applicant does not have Internet access. In that case, hard copies with original signatures may be sent to: National Marine Fisheries Service, State/Federal Liaison Branch, 263 13th Avenue South, St. Petersburg, FL 33701.

Information Contacts: For questions regarding the application process, you may contact: Robert Sadler, State/Federal Liaison Branch, (727) 824-5324, or Robert.Sadler@noaa.gov.

Eligibility: Eligible applicants may be institutions of higher education, nonprofits, commercial organizations, individuals, state, local and Indian tribal governments. Federal agencies or institutions are not eligible. Foreign governments, organizations under the jurisdiction of foreign governments, and international organizations are excluded for purposes of this solicitation since the objective of the MARFIN program is to optimize research and development benefits from U.S. marine fishery resources.

Cost Sharing Requirements: Cost-sharing is not required for this program.

Intergovernmental Review: Applications submitted by state and local governments are subject to the provisions of Executive Order 12372, Intergovernmental Review of Federal Programs. Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

9. NOAA General Coral Reef Conservation Grants Program

Summary Description: The NOAA Coral Reef Conservation Program/General Coral Reef Conservation Grants Program (GCRCGP) provides funding to institutions of higher education, non-profit organizations, commercial organizations, Freely Associated State government agencies, and local and Indian tribal governments to support coral reef conservation projects in the United States and the Freely Associated States in the Pacific, as authorized under the Coral Reef Conservation Act of 2000. Projects funded through the GCRCGP support on-the ground efforts that: (1) Help preserve, sustain and restore the condition of coral reef ecosystems, (2) promote the wise management and sustainable use of coral reef resources, (3) increase public knowledge and awareness of coral reef ecosystems and issues regarding their conservation and (4) develop sound scientific information on the condition of coral reef ecosystems and the threats to such ecosystems. Projects should complement and fill gaps in state, territorial and commonwealth coral reef programs, emphasize community-based conservation, or address local action strategy priorities.

Proposals selected for funding through this solicitation require a 1:1 match and will be implemented through a grant. Funding of up to $600,000 is expected to be available for GCRCGP in FY 2009. These funds will be divided approximately equally among the U.S. Pacific and Atlantic to maintain geographic balance, as outlined in the Coral Reef Conservation Act of 2000. Awards will range from $15,000-$50,000.

Funding Availability: NOAA announces the availability of up to $600,000 of Federal assistance may be available in FY 2009 for the GCRCGP to support financial assistance awards for coral conservation activities. Proposals can be submitted for a minimum of $15,000 to a maximum of $50,000; NOAA will not accept proposals requesting over $50,000 of Federal funds. There is no limit on the number of applications that can be submitted by the same applicant during the 2009 competitive grant cycle. However, multiple applications submitted by the same applicant must clearly identify different projects and must be successful in the competitive review process. The number of awards made as a result of this solicitation will depend on the number of eligible applications received, the amount of funds requested for each project, the merit and ranking of the proposals, and the amount of funds made available to the Program by Congress. In addition, funding will be divided between the U.S. Pacific and U.S. Atlantic to meet requirements for geographic distribution of funds, as described in the Coral Reef Conservation Act. Attempts will also be made to fund one or more projects in each jurisdiction, provided that the project addresses priorities outlined above, it is identified as having sufficient merit, and it meets all other requirements as stipulated in this solicitation. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.463, Habitat Conservation.

Application Deadline: Proposals must be received by 5 p.m. Eastern Time on November 3, 2008.

Address for Submitting Proposals: Applications must be submitted through www.grants.gov. If an applicant does not have Internet access, hard copy applications with the SF-424 Form bearing an original, ink signature must be postmarked November 3, 2008 and sent to: Jennifer Koss, NOAA Coral Reef Conservation Program, NOAA Fisheries, Office of Habitat Conservation (F/HC), 1315 East-West Highway, Silver Spring, MD 20910. ATTN: CRCGP Project Applications.

Information Contacts: Technical point of contact for NOAA Coral Reef Conservation Grant Program/General Grants is Jennifer Koss, 301-713-3459, extension 195 or E-mail at Jennifer.Koss@noaa.gov.

Eligibility: Institutions of higher education, non-profit organizations, commercial organizations, local and Indian tribal governments and Freely Associated State Government Agencies can apply for funding under the GCRCGP. U.S. federal, state, territory, and commonwealth governments and Regional Fishery Management Councils are not eligible for this program. NOAA employees are not allowed to help in the preparation of applications or write letters of support for any application. NOAA staff are available to provide information on programmatic goals and objectives, ongoing coral reef conservation programs, Regional funding priorities, and, along with other Federal Program Officers, can provide information on application procedures and completion of required forms. For activities that involve collaboration with current NOAA programs or staff, NOAA employees must provide a letter verifying that they are collaborating with the project. Federal employee travel and salaries are not allowable costs under this program.

Cost Sharing Requirements: As per section 6403(b)(1) of the Coral Reef Conservation Act of 2000, Federal funds for any coral conservation project funded under this Program may not exceed 50 percent of the total cost of the project. All GCRCGP projects submitted to this program require a 1:1 match obtained from non-Federal sources. Applicants must specify in their proposal the source of the match and provide letters of commitment to confirm stated match contributions. The match can include in-kind contributions and other non-cash support. Applicants are permitted to combine contributions from additional non-Federal partners in order to meet the 1:1 match expected, as long as such contributions are not being used to match any other funds. Federal funds may not be used as matching funds. The nature of the contribution (cash versus in-kind) and the amount of matching funds will be taken into consideration in the review process, with cash being the preferred method of contribution. Applicants with less than 1:1 match will not be disqualified, if they provide justification for a lower amount of matching funds, however, applicants should note that cost sharing is an element considered in Evaluation Criterion d. Project Costs of the FFO. As per section 6403(b)(2) of the Coral Reef Conservation Act of 2000, the NOAA Administrator may waive all or part of the matching requirement if the Administrator determines that the project meets the following two requirements: (1) No reasonable means are available through which an applicant can meet the matching requirement; and (2) The probable benefit of such project outweighs the public interest in such matching requirement. In the case of a waiver request, the applicant must provide a detailed justification at the time the proposal is submitted explaining the need for the waiver including attempts to obtain sources of matching funds, how the benefit of the project outweighs the public interest in providing match, and any other extenuating circumstances preventing the availability of match. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Eligible applicants choosing to apply 48 U.S.C. 1469a(d) must include a letter requesting a waiver that demonstrates that their project meets the requirements of 48 U.S.C. 1469a(d).

Intergovernmental Review: Applications under this Program are subject to Executive Order 12372, Intergovernmental Review of Federal Programs. Any applicant submitting an application for funding is required to complete item 16 on SF-424 regarding clearance by the State Single Point of Contact (SPOC) established as a result of EO 12372. http://www.whitehouse.gov/omb/grants/spoc.html.

10. Projects To Improve or Amend Coral Reef Fishery Management Plans

Summary Description: The NOAA Coral Reef Conservation Grant Program/Projects to Improve or Amend Coral Reef Fishery Management Plans (CRFMPGP) provides funding to the Regional Fishery Management Councils for projects to conserve and manage coral reef fisheries, as authorized under the Coral Reef Conservation Act of 2000. Projects funded through the CRFMPGP are for activities that: (1) Provide better scientific information on the status of coral reef fisheries resources, critical habitats of importance to coral reef fishes, and the impacts of fishing on these species and habitats; (2) identify new management approaches that protect coral reef biodiversity and ecosystem function through regulation of fishing and other extractive uses; and (3) incorporate conservation and sustainable management measures into existing or new Federal fishery management plans for coral reef species. Proposals selected for funding through this solicitation will be implemented through a Cooperative Agreement. The role of NOAA in the CRFMPGP is to help identify potential projects that reduce impacts of fishing on coral reef ecosystems, strengthen the development and implementation of the projects, and assist in coordination of these efforts with Federal, state, territory or commonwealth management authorities and various coral reef user groups. Funding up to $1,050,000 is expected to be available for CRFMPGP Cooperative Agreements in FY 2009. These funds will be divided equally among the Atlantic and Pacific to maintain the geographic split required by the Act. The NOAA Coral Reef Conservation Program anticipates that awards will range from $175,000-$525,000.

Funding Availability: This solicitation announces that approximately $1,050,000 is expected to be available for cooperative agreements in support of coral reef conservation activities for Projects to Improve or Amend Coral Reef Fishery Management Plans (CRFMPGP) in FY 2009. Actual funding availability for this program is contingent upon Fiscal Year 2009 Congressional appropriations. The NOAA Coral reef Conservation Program anticipates that typical project awards will range from about $175,000 to $525,000; NOAA will not accept proposals for over $525,000 under this solicitation. Equal funding will be provided to the Atlantic and Pacific, up to a maximum of $525,000 for activities in the Western Pacific, and a maximum of $525,000 for activities in the South Atlantic, the Gulf of Mexico, and the Caribbean. The exact amount of funds that may be awarded will be determined in pre-award negotiations between the applicant and NOAA representatives. Activities approved by NOAA will be awarded as new cooperative agreements through the NMFS Office of Habitat Conservation (HC). The number of awards made as a result of this solicitation will depend on the number of eligible applications received, the amount of funds requested for each project, the merit and ranking of the proposals, and the amount of funds made available to the Program by Congress. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.441, Regional Fishery Management Councils.

Application Deadline: Proposals must be received by 5 p.m. eastern time on November 3, 2008.

Address for Submitting Proposals: Applications must be submitted through www.grants.gov, unless an applicant does not have Internet access. In that case, hard copies with original signatures may be sent to: Jennifer Koss, NOAA Coral Reef Conservation Program, NOAA Fisheries, Office of Habitat Conservation (F/HC1), 1315 East-West Highway, Silver Spring, MD 20910. ATTN: CRCGP Project Applications. Electronic copies of the project narrative and budget narrative are requested when submitting by mail (liz.fairey@noaa.gov), however E-mail applications submitted without a mailed hard copy with appropriate postal date stamp will not be accepted.

Information Contacts: Technical point of contact for NOAA Coral Reef Conservation Grant Program/Projects to Improve or Amend Coral Reef Fishery Management Plans Grants Program is Jennifer Koss, 301-713-3459, extension 195 or E-mail at Jennifer.Koss@noaa.gov.

Eligibility: Eligible applicants are limited to the Western Pacific Regional Fishery Management Council, the South Atlantic Fishery Management Council, the Gulf of Mexico Fishery Management Council, and the Caribbean Fishery Management Council.

Cost Sharing Requirements: No cost sharing or matching is required under this program. The Administrator has waived the matching requirement for the Fishery Management Councils as discussed in Section VII of the Coral Reef Conservation Grant Program Implementation Guidelines (Federal Register Vol. 67, No. 76, page 19396, Friday, April 19, 2002). This waiver is based on the fact that the Councils are funded solely by awards from the U.S. Federal Government, and therefore, do not have the ability to generate matching funds.

Intergovernmental Review: Applications under this CRFMPGP are subject to Executive Order 12372, Intergovernmental Review of Federal Programs. Specific information regarding Intergovernmental Review can be found above in Section IV. Application and Submission Information, D. Intergovernmental Review of the FFO.

11. Protected Species Cooperative Conservation

Summary Description: States play an essential role in the conservation and recovery of endangered and threatened species. Protected species under the National Marine Fisheries Service's (NMFS) jurisdiction may spend all or a part of their life-cycles in state waters, and success in conserving these species will depend in large part on working cooperatively with State agencies. The NMFS is authorized to provide Federal assistance to eligible States to support the development of conservation programs for marine and anadromous species that reside within that State. This assistance, provided in the form of grants through the Protected Species Cooperative Conservation program, can be used to support conservation of endangered, threatened, and candidate species, as well as post-delisting monitoring of recovered species. Funded activities may include development and implementation of management plans, scientific research, and public education and outreach; projects should address priority actions identified in either an ESA Recovery Plan or a State's ESA section 6 conservation program. Projects focusing on listed Pacific salmon will not be considered for funding under this grant program; such projects may be funded through the Pacific Coastal Salmon Recovery Fund. Any State agency that has entered into an agreement with the NMFS pursuant to section 6(c) of the ESA is eligible to apply to this grant program. This document describes how to submit proposals for funding in fiscal year (FY) 2009 and how NMFS will determine which proposals will be funded; the document should be read in its entirety, as information may have changed from the previous year.

Funding Availability: This solicitation announces that a minimum of $330K and a maximum of $780K may be available for distribution under the FY 2009 PSCC program, in award amounts to be determined by the proposals and available funds; actual funding availability for this program is contingent upon Fiscal Year 2009 Congressional appropriations. As funds have not yet been appropriated for this program, there is no guarantee that sufficient funds will be available to make awards for all qualified projects. Publication of this notice does not oblige NOAA to award any specific grant proposal or to obligate any available funds. There is no set minimum or maximum amount, within the available funding, for any award. There is also no limit on the number of applications that can be submitted by the same applicant. Multiple applications submitted by the same applicant must clearly identify distinct projects, and single applications should not include multiple, unrelated projects. Project proposals accepted for funding with a project period over one year do not have to compete for the additional years of funding. However, funding for the additional years is contingent upon the availability of funds and satisfactory performance and is at the sole discretion of the agency.

Statutory Authority: 16 U.S.C. 661 et seq.; 1535.

Catalog of Federal Domestic Assistance (CFDA) Number: 11.472, Unallied Science Program.

Application Deadline: Proposals submitted through Grants.gov must be received by 5 p.m. Eastern Daylight Time on September 17, 2008; proposals submitted by mail must be postmarked by September 17, 2008.

Address for Submitting Proposals: Applications must be submitted through www.grants.gov, unless an applicant does not have Internet access. In that case, 3 hard copies with original signatures may be sent to: NMFS Office of Protected Resources, Attn: Lisa Manning, 1315 East-West Highway, SSMC3, Silver Spring, MD 20910. Paper applications should not be bound in any manner.

Information Contacts: If you have any questions regarding this proposal solicitation, please contact Lisa Manning at the NOAA/NMFS/Office of Protected Resources, Endangered Species Division, 1315 East-West Highway, Silver Spring, MD 20910, by phone at 301-713-1401, or by E-mail at Lisa.Manning@noaa.gov. You may also contact one of the following people in your region for further guidance: Karla Reece, Southeast Regional Office, Protected Resources Division (Karla.Reece@noaa.gov, 727-824-5312); Amanda Johnson, Northeast Regional Office, Protected Resources Division (Amanda.Johnson@noaa.gov, 978-281-9300 x6513); Jayne LeFors, Pacific Islands Regional Office, Protected Resources Division (Jayne.LeFors@noaa.gov, 808-944-2277); Scott Rumsey, Northwest Regional Office, Fish and Wildlife Administrator (Scott.Rumsey@noaa.gov, 503-872-2791).

Eligibility: Eligible applicants are state agencies that have entered into an agreement with NMFS pursuant to section 6(c) of the ESA. The terms “state” and “state agency” are used as defined in section 3 of the ESA (16 U.S.C. 1532). Currently eligible state agencies are from the following states: Delaware, Florida, Georgia, Hawaii, Maine, Maryland, Massachusetts, New Jersey, New York, North Carolina, Puerto Rico, South Carolina, the U.S. Virgin Islands, and Washington. Any state agency that enters into a section 6(c) agreement with NMFS prior to the application deadline (September 17, 2008) is also eligible to apply. States may apply for funding to conduct work on federally listed species that are included in their ESA section 6 agreement and any species that has become a candidate species by the grant application deadline. States may not apply for funding to conduct work on federally listed species that are not covered in their ESA section 6 agreement unless said species is added to the agreement by the grant application deadline. Federal agencies or institutions are not eligible to receive Federal assistance under this notice. In addition, NOAA and NMFS employees shall not provide assistance in writing applications, write letters of support for any application, or otherwise confer any unfair advantage on a particular application. However, for activities involving collaboration with current NMFS programs, NMFS employees can write a letter verifying that they are collaborating with the project.

Cost Sharing Requirements: In accordance with section 6(d) of the ESA, all proposals submitted must include a minimum non-Federal cost share of 25 percent of the total budget if the proposal involves a single state. If a proposal involves collaboration of two or more states, the minimum non-Federal cost share decreases to 10 percent of the total project budget. The project proposal and budget should reflect the work and responsibilities to be carried out by each of the cooperating states. Pursuant to Public Law 95-134, Title V, section 501 (1977), as amended (48 U.S.C. 1469a) the following Insular Areas are exempt from this matching requirement: American Samoa, Guam, the Virgin Islands, and the Northern Mariana Islands. The non-Federal cost share should be identified in the project budget (and on the SF-424A) and may include in-kind contributions according to the regulations at 15 CFR part 24.

Intergovernmental Review: Applications under this program are subject to Executive Order 12372, “Intergovernmental Review of Federal Programs.”

12. Saltonstall-Kennedy Grant Program (FY 2009)

Summary Description: The Saltonstall-Kennedy Act established a fund (known as the S-K fund) that the Secretary of Commerce uses to provide grants or cooperative agreements for fisheries research and development projects addressing aspects of U.S. fisheries, including, but not limited to, harvesting, processing, marketing, and associated infrastructures. U.S. fisheries include any fishery, commercial or recreational, that is, or may be, engaged in by citizens or nationals of the United States, or citizens of the Northern Mariana Islands (NMI), the Republic of the Marshall Islands, Republic of Palau, and the Federated States of Micronesia.

Funding Availability: Funding is contingent upon availability of Federal allocations. The S-K program has sought funding for $5 million in grant awards. We anticipate awarding 20-25 grants of approximately $100,000 to $250,000 each. Applicants are hereby given notice that funds have not yet been allocated for this program. In no event will NOAA or the Department of Commerce be responsible for proposal preparation costs if this program fails to receive funding or is cancelled because of other agency priorities. Publication of this notice does not obligate NOAA to award any specific project or to obligate any available funds. You should not initiate your project in expectation of Federal funding until you receive a grant award document signed by an authorized NOAA official. If one incurs any costs prior to receiving an award agreement signed by an authorized NOAA official, one would do so solely at one's own risk of these costs not being included under the award. Recipients and subrecipients are subject to all Federal laws and agency policies, regulations and procedures applicable to Federal financial assistance awards.

Statutory Authority: Authority for the Saltonstall-Kennedy Grant Program is provided under the Saltonstall-Kennedy Act (S-K Act), as amended (15 U.S.C. 713c-3).

Catalog of Federal Domestic Assistance (CFDA) Number: 11.427, Fisheries Development and Utilization Research and Development Grants and Cooperative Agreements Program.

Application Deadline: Applications must be received by 5 p.m., Eastern Time on October 1, 2008. Applications received after the deadline will be rejected/returned to the sender without further consideration. No facsimile or electronic mail applications will be accepted.

Address for Submitting Proposals: Applications must be submitted through www.grants.gov, unless an applicant does not have Internet access. In that case, hard copies with original signatures may be sent to: Mr. Steve Aguzin, S-K Program Manager, NOAA/NMFS (F/MB5), 1315 East-West Highway, Room 13134, Silver Spring, MD 20910-3282.

Information Contacts: The point of contact is: Steve Aguzin, S-K Program Manager, NOAA/NMFS (F/MB5), 1315 East-West Highway, Room 13134, Silver Spring, MD 20910-3282; or by Phone at (301) 713-2358 ext. 215, or fax at (301) 713-1306, or via E-mail at Stephen.Aguzin@noaa.gov.

Eligibility: You are eligible to apply for a grant or a cooperative agreement under the Saltonstall-Kennedy Grant Program if: 1. You are a citizen or national of the United States; 2. You are a citizen of the Northern Mariana Islands (NMI), or an individual who qualifies as such under section 8 of the Schedule on Transitional Matters attached to the constitution of the NMI; 3. You are a citizen of the Republic of the Marshall Islands, Republic of Palau, or the Federated States of Micronesia; or 4. You represent a corporation, partnership, association, or other non-Federal entity, non-profit or otherwise (including Indian tribes), that is based in the United States or NMI, within the meaning of section 2 of the Shipping Act, 1916, as amended (46 U.S.C. app. 802). We support cultural and gender diversity in our programs and encourage women and minority individuals and groups to submit applications. Furthermore, we recognize the interest of the Secretaries of Commerce and Interior in defining appropriate fisheries policies and programs that meet the needs of the U.S. insular areas, so we also encourage applications from individuals, government entities, and businesses in U.S. insular areas. We are strongly committed to broadening the participation of Minority Serving Institutions (MSIs), which include Historically Black Colleges and Universities, Hispanic Serving Institutions, and Tribal Colleges and Universities, in our programs, including S-K. Therefore, we encourage all applicants to include meaningful participation of MSIs. We encourage applications from members of the fishing community, and applications that involve fishing community cooperation and participation. We will consider the extent of fishing community involvement when evaluating the potential benefit of funding a proposal. You are not eligible to submit an application under this program if you are an employee of any Federal agency; a Fishery Management Council; or an employee of a Council. However, Council members who are not Federal employees can submit an application to the S-K Program.

Cost Sharing Requirements: We are requiring cost sharing in order to leverage the limited funds available for this program and to encourage partnerships among government, industry, and academia to address the needs of fishing communities. You must provide a minimum cost share of 10 percent of total project costs, but your cost share must not exceed 50 percent of total costs.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

13. Prescott 2009

Summary Description: The Marine Mammal Health and Stranding Response Program of the National Marine Fisheries Service is charged under the Marine Mammal Protection Act with facilitating the collection and dissemination of reference data on stranded marine mammals and health trends of marine mammal populations in the wild. Through cooperation with NMFS Regional Coordinators, local organizations and state and local government officials respond to and collect valuable data from stranded marine mammals as participants in the national Marine Mammal Stranding Network. The John H. Prescott Marine Mammal Rescue Assistance Grant Program is conducted by NOAA to provide Federal assistance to eligible members of the Stranding Network to: (1) Support basic needs of organizations for response, treatment, and data collection from living and dead stranded marine mammals; (2) fund scientific research objectives designed to answer questions about marine mammal strandings, health, or rehabilitation techniques utilizing data from living and dead stranded marine mammals; and, (3) support facility operations directly related to the recovery or treatment of stranded marine mammals and collection of data from living or dead stranded marine mammals.

Funding Availability: This solicitation announces that approximately $4M may be available for distribution under the FY 2009 annual competitive Prescott Program. Actual funding availability for this program is contingent upon FY 2009 Congressional appropriations. Applicants are hereby given notice that these funds have not yet been appropriated for this program, and therefore exact dollar amounts cannot be given. There is no guarantee that sufficient funds will be available to make awards for all qualified projects. The maximum Federal award for each grant cannot exceed $100,000, as stated in the legislative language (16 U.S.C. 1421f-1). Funds will be set aside from the annual appropriation to provide for emergency assistance awards to eligible stranding network participants. These emergency funds will be available until expended. There is no limit on the number of proposals that can be submitted by the same stranding network participant during the 2009 competitive grant cycle. However, since there are insufficient funds to award financial assistance to every member of the network, organizations will receive no more than two awards per year as part of the competitive program. The two awards must be for projects that are clearly separate in their objectives, goals, and budget requests and must be successful in the competitive review process. The two projects should be completely independent (i.e., you will be able to carry out either proposal even if the other does not receive funding). In addition, eligible researchers applying as Principal Investigators, but not independently authorized under the MMPA Section 112(c), the MMPA Section 109(h) (50 CFR 216.22), or the National Contingency Plan for Response to Marine Mammal Unusual Mortality Events, can receive no more than one award per year as part of the competitive cycle.

Authorized stranding network participants and researchers may be identified as Co-Investigators or collaborators on as many proposals as needed as long as no more than 100 percent of their time is funded through the Prescott Program. In addition, Department of Commerce (DOC) and Department of Interior (DOI) employees may act as collaborators if they are responsible for performing analyses on data or samples collected under a Prescott award. See section I.F. of the FFO for Eligibility requirements. If an application for a financial assistance award is selected for funding, NOAA/NMFS has no obligation to provide any additional funding in connection with that award in subsequent years beyond the award period. If one incurs any costs prior to receiving an award agreement signed by an authorized NOAA official, one would do so solely at one's own risk of these costs not being included under the award. Notwithstanding any verbal or written assurance that applicants have received, pre-award costs are not allowed under the award unless the Grants Officer approves them in accordance with 15 CFR 14.28.

Statutory Authority: 16 U.S.C. 1421f-1.

Catalog of Federal Domestic Assistance (CFDA) Number: 11.439, Marine Mammal Data Program.

Application Deadline: Proposals must be postmarked or submitted online by 11:59 p.m. EDT on Wednesday, October 1, 2008.

Address for Submitting Proposals: Applications must be submitted through www.grants.gov, unless an applicant does not have Internet access. In that case, hard copies with original signatures may be sent to: NOAA/NMFS/Office of Protected Resources, Marine Mammal Health and Stranding Response Program, 1315 East-West Highway, Room 13620, Silver Spring, MD 20910-3283.

Information Contacts: Please visit the Prescott Grant Program Web site at: http://www.nmfs.noaa.gov/pr/health/prescott/ or contact Michelle Ordono at the NOAA/NMFS/Office of Protected Resources, Marine Mammal Health and Stranding Response Program, 1315 East-West Highway, Room 13620, Silver Spring, MD 20910-3283, by phone at (301) 713-2322, or by fax at (301) 427-2525, or by E-mail at PrescottGrantFR.comments@noaa.gov.

Eligibility: There are three categories of eligible stranding network participants that may apply for funds under this Program: (1) Stranding Agreement (SA) holders or their designee organizations; (2) holders of researcher authorization letters issued by a NMFS Regional Administrator; and, (3) state, local, eligible federal government or tribal employees or personnel. All applicants must currently be: (1) Active as an authorized participant or researcher in the marine mammal stranding network; (2) In good standing and; (3) Not a current full or part-time employee or contractor of DOC or DOI. To be “in good standing”, you must meet all of the following criteria: (1) If the applicant is a designated Principal Investigator of an MMPA or Endangered Species Act (ESA) scientific research or enhancement permit holder, the applicant must have fulfilled all permit requirements, including but not limited to submission of all reports, and must have no pending or outstanding enforcement actions under the MMPA or ESA. (2) Have complied with the terms and responsibilities of the appropriate SA, MMPA Section 109(h) authorization, or researcher authorization letter. This includes, but is not limited to, the following reporting requirements: (a) Timely reporting of strandings to NMFS; (b) timely submission of complete reports on basic or Level A data to the Regional Coordinator (includes investigator's name, species, stranding location, number of animals, date and time of stranding and recovery, length and condition, and sex; marine mammal parts retention or transfer; annual reports); and (c) collecting information or samples as necessary and as requested. This also includes the following coordination/cooperation requirements: (a) Cooperation with state, local, and Federal officials; (b) cooperation with state and local officials in the disposition of stranded marine mammals; and (c) cooperation with other stranding network participants. (3) Have cooperated in a timely manner with NMFS in collecting and submitting Level B (supplementary information regarding sample collection related to life history and to the stranding event) and Level C (necropsy results) data and samples, when requested. (4) Have no current enforcement investigation for the take of marine mammals contrary to the MMPA/ESA regulations. (5) Have no record of a pending NMFS notice of violation(s) regarding the policies governing the goals and operations of the Stranding Network and Stranding Agreement, if applicable (e.g., probation, suspension, or termination). In addition to these general criteria, organizations and individuals must meet the following eligibility criteria specific to their category of participation: (1) SA Holder Participant or SA Designee Participant. SA participants must be holding a current (active) SA for stranding response (either live or dead animal response) or rehabilitation from a NMFS Regional Administrator or the Assistant Administrator. SA Designee participants must be holding a current (active) letter of designation from a NMFS SA holder, and designees cannot request authorization for activities beyond the scope of what is authorized by the SA to the letter holder. (2) Researcher Participant. Researcher participants must be holding a current (active) authorizing letter for the proposed award period from the NMFS Regional Administrator or the Assistant Administrator to salvage stranded marine mammal specimens and parts or samples for the purpose of utilization in scientific research (50 CFR 216.22). Persons authorized to salvage dead marine mammal specimens under this section must register the salvage with the appropriate NMFS Regional Office within 30 days after the taking occurs. Researchers who are authorized under an MMPA/ESA Scientific Research Permit must still obtain an authorizing letter from the Regional Stranding Coordinator in order to use parts or specimens from stranded animals. Researcher participants that would not require an authorizing letter from the NMFS Regional Administrator (i.e., they will be working with data only and not possessing samples or specimens) must still provide a letter of eligibility from the Regional Stranding Coordinator (see IV.B.8 of the FFO). Researcher participants must also have designated Co-Investigator(s) that are active NMFS authorized stranding network participants in good standing, and provide documentation to this effect. (3) State, Local, Federal Government Employees or Tribal Participants, State and local government officials or employees participating pursuant to MMPA Section 109(h) (16 U.S.C. 1379(h)) for marine mammal species not listed under the ESA fulfilling reporting obligations outlined in 50 CFR 216.22 (i.e., submission of written report to NMFS every six months containing description of animal(s) involved, circumstances of taking, method of taking, name and position of official or employee involved, and disposition of animal(s)). Government officials must be involved in areas of geographic need (i.e., municipality or larger region with no existing SA holder responder). Applicants must submit the required documentation in their proposal (see Section IV, Application and Submission Information of the FFO) as evidence that they are an SA holder or designee participant, researcher participant, or a state, local, or Federal government employee, or tribal participant at the time of the submission and during the award period. All eligibility criteria specified for the participant's category must be met in order for a proposal to be considered for funding. We support cultural and gender diversity in our programs and encourage eligible women and minority individuals and groups to submit proposals. Furthermore, we recognize the interest of the Secretaries of Commerce and Interior in defining appropriate marine management policies and programs that meet the needs of the U.S. insular areas, so we also encourage proposals from eligible individuals, government entities, universities, colleges, and businesses in U.S. insular areas as defined by the MMPA (Section 3(14), 16 U.S.C. 1362). This includes the Commonwealth of Puerto Rico, the U.S. Virgin Islands, American Samoa, Guam, and the Northern Mariana Islands. We are strongly committed to broadening the participation of Minority Serving Institutions (MSIs), which include Historically Black Colleges and Universities, Hispanic Serving Institutions, Tribal Colleges and Universities, and institutions that work in undeserved areas in our programs.

The DOC/NOAA/NMFS vision, mission, and goals are to achieve full participation by MSIs, to advance the development of human potential, strengthen the Nation's capacity to provide high-quality education, and increase opportunities for MSIs to participate in and benefit from Federal financial assistance programs. Therefore, Prescott Grant Program encourages all eligible applicants to include meaningful participation of MSIs whenever practicable. Applicants are not eligible to submit a proposal under this program if they are an employee of the DOC or DOI. NOAA/NMFS employees (whether full-time, part-time, or intermittent) are not allowed to help in the preparation of proposals, except for providing information on data or sample analyses as an identified collaborator/Co-Investigator in the proposal. Since this is a competitive program, NMFS and NOAA employees cannot provide assistance in conceptualizing, developing, or structuring proposals, or write letters of support for any proposal. However, for activities that involve collaboration with current NOAA programs that include, but are not limited to, the National Marine Mammal Tissue Bank (NMMTB) or laboratories conducting analysis of tissues for contaminants, employees of NOAA or the National Institute of Standards and Technology can write a letter verifying that they are collaborating with the project, or that the organization or individual applying is trained to participate in the NMMTB or is currently participating in the National Marine Analytical Quality Assurance Program. In addition, proposals encompassing activities conducted under the authority of a MMPA Scientific Research Permit issued to a DOC or DOI organization (e.g., NMFS Regional Science Center) should include a copy of the permit and a letter from the Principal Investigator (DOC/DOI employee) verifying that the work is being conducted with their approval. Federal employee travel costs or salaries are not allowable costs under this program. MMHSRP staff (at the regional and national level) are available to provide information regarding statistics on strandings, MMHSRP programmatic goals and objectives, ongoing marine mammal programs, regional funding priorities for the current and previous Prescott solicitations, and, along with other Federal Program Officers, can provide guidance on application procedures and proper completion of required forms. Unsatisfactory performance under prior or current Federal awards, including delinquency in submitting progress and financial reports, may result in proposals not being considered for funding under the 2009 Prescott Grant Program.

Cost Sharing Requirements: All proposals submitted must provide a minimum non-Federal cost share of 25 percent of the total budget (i.e., .25 × total project costs = total non-Federal share). Therefore, the total Federal share will be 75 percent or less of the total budget. For a proposed total Federal share of $100,000, the minimum non-Federal share is $33,334 (total budget of $133,334; .25 × $133,334 = $33,334). For a proposed total Federal share of $80,000, the minimum non-Federal share is $26,667 (total budget of $106,667; .25 × $106,667 = $80,000). Cost share must be an integer, so please round up. The applicant can include a non-Federal cost share for more than 25 percent of the total budget, but this obligation will be binding. In order to reduce calculation error in determining the correct cost share amounts, we urge all applicants to use the cost share calculator on the Prescott Program Web page (http://www.nmfs.noaa.gov/pr/health/prescott/proposals/costshare.htm). Legislation under which the Prescott Program operates requires this cost sharing, or non-Federal match, in order to leverage the limited funds available for this program and to encourage partnerships among government, private organizations, non-profit organizations, the stranding network, and academia to address the needs of marine mammal health and stranding response. If a proposal does not comply with these cost share requirements, it will not be returned and considered in this annual funding cycle. Pursuant to 48 U.S.C. 1469a, match may be waived for applicants that are residents in the U.S. insular areas (Commonwealth of the Northern Mariana Islands, Guam, American Samoa, and the U.S. Virgin Islands). The Federal Program Officer will determine the appropriateness of all non-Federal cost sharing proposals, including the valuation of in-kind contributions, according to the regulations codified at 15 CFR 14.23 and 24.24. An in-kind contribution is a non-cash contribution, donated or loaned, by a third party to the applicant. In general, the value of in-kind services or property used to fulfill a non-Federal cost share will be the fair market value of the services or property. Thus, the value is determined by the cost of obtaining such services or property if they had not been donated, or of obtaining such services or property for the period of the loan. The applicant must document the in-kind services or property used to fulfill the non-Federal cost share. If we decide to fund a proposal, we will require strict accounting of the in-kind contributions within the total non-Federal cost share included in the award document. The Grants Officer (i.e., the DOC official responsible for all business management and administrative aspects of a grant and with delegated authority to award, amend, administer, close out, suspend, and/or terminate awards) is the final approving authority for the award, including the budget and any cost-sharing proposals.

Intergovernmental Review: Applications submitted under this program are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

National Ocean Service (NOS)

1. 2009 CRCP Coral Reef Ecosystem Monitoring

Summary Description: The NOAA Coral Reef Monitoring Grant Program, as authorized under the Coral Reef Conservation Act of 2000, provides matching grants to Governor-appointed point of contact agencies for the jurisdictions of Puerto Rico, the U.S. Virgin Islands (USVI), Florida, Hawaii, American Samoa, Guam, the Commonwealth of the Northern Mariana Islands (CNMI), the Republic of Palau, the Federated States of Micronesia (including Chuuk, Yap, Kosrae, and Pohnpei), and the Republic of the Marshall Islands to support State and Territory Coral Reef Monitoring activities in these jurisdictions.

Funding Availability: NCCOS may provide approximately $1,100,000 in funding for FY 2009 to support coral reef ecosystem monitoring activities under this program. FY 2009 awards to Puerto Rico, Florida, U.S. Virgin Islands, Hawaii, American Samoa, Guam, and the Commonwealth of the Northern Mariana Islands are expected to range from $50,000 to $130,000. FY 2009 awards to the Federated States of Micronesia (FSM—including Chuuk, Yap, Kosrae, and Pohnpei), Republic of Palau, and the Republic of the Marshall Islands (RMI) are expected to be approximately $30,000 per year. Funding will be subject to the availability of federal appropriations. FY 2009 grant seekers may submit proposals up to three years in duration, at funding levels specified above (i.e., up to $90,000 for three year proposals for Palau, FSM, and RMI, and up to $390,000 for three year proposals for all other eligible applicants). In certain instances, when requested by the applicant and agreed upon by NOAA, NOAA may hold back a portion of any awarded funds in order to provide specific technical assistance in the form of contractual or other services. This will only be allowed where such priority technical assistance and/or the lack of sufficient means to deliver it are unavailable at the local level. Such requests proposed herein will be reviewed on a case by case basis with respect to the specific management objectives of this and the local coral reef program. If all available funds are not awarded, NOAA will consult with the eligible applicants on the use of any residual funds. NOAA will work with each jurisdiction to ensure the greatest degree of success in meeting local, state, territorial, and national coral reef monitoring needs.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.426, Financial Assistance for National Centers for Central Coastal Ocean Science.

Application Deadline: Preproposals due: 5 p.m. on EST November 14, 2008. Comments on preproposals provided to the applicants on January 9, 2009. Final proposals due: 5 p.m. EST on February 20, 2009.

Address for Submitting Proposals: Pre-applications must be sent to coral.grants@noaa.gov or to Jenny Waddell, NOAA National Ocean Service, N/SCI-1, 1305 East-West Highway, Silver Spring, MD 20910. Final applications must be submitted through www.grants.gov, unless an applicant does not have Internet access. In that case, hard copies with original signatures may be sent to: Jenny Waddell, NOAA National Ocean Service, N/SCI-1, 1305 East-West Highway, Silver Spring, MD 20910.

Information Contacts: The technical point of contact for State and Territory Coral Reef Monitoring is Jenny Waddell. She can be reached at 301-713-3028 extension 174 or by e-mail at jenny.waddell@noaa.gov.

Eligibility: Eligible applicants are limited to a natural resource management agency in each U.S. State or Territory, or an appropriate non-governmental agency in the case of the Freely Associated States, with jurisdiction over and an ability to monitor the condition of coral reefs, as designated by the respective governors or other applicable senior jurisdictional official. Applicants from the Freely Associated States must also provide a letter of support from their respective officially-designated coral reef point of contact to ensure that the proposed activities are coordinated with other ongoing coral reef conservation efforts. NOAA is requesting proposals from Puerto Rico, Florida, U.S. Virgin Islands, Hawaii, American Samoa, Guam, and Commonwealth of the Northern Mariana Islands, the Federated States of Micronesia, Republic of Palau, and the Republic of the Marshall Islands. Federal agencies are not eligible for funding under this Program. Furthermore, to be eligible for FY 2009 funding, applicants previously receiving funds under this program must have made significant progress implementing those tasks and met data submission deadlines, including all performance and fiscal reporting requirements and data transfers.

Cost Sharing Requirements: As per section 6403(b)(1) of the Coral Reef Conservation Act of 2000, Federal funds for any coral conservation project funded under this Program may not exceed 50 percent of the total cost of the projects. Therefore, any coral conservation project under this program requires a 1:1 match. Matching funds must be from non-Federal sources and can include in-kind contributions and other non-cash support.

NOAA strongly encourages applicants to leverage as much investment as possible. Federal funds may not be considered as matching funds. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. Applicants must specify in their proposal the source and may be asked to provide letters of commitment to confirm stated match contributions.

In the case of a waiver request, the applicant must provide a detailed justification explaining the need for the waiver including attempts to obtain sources of matching funds, how the benefit of the project outweighs the public interest in providing match, and any other extenuating circumstances preventing the availability of match. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Please Note: eligible applicants choosing to apply 48 U.S.C. 1469a(d) should note the use and amount in the matching funds section of the respective application.

Intergovernmental Review: Applications under this program are not subject to Executive Order 12372, Intergovernmental Review of Federal Programs.

2. 2009 CRCP—Coral Reef Management

Summary Description: The NOAA Coral Reef Management Grant Program, as authorized under the Coral Reef Conservation Act of 2000, provides matching grants to the Governors appointed point of contact agencies for the jurisdictions of Puerto Rico, the U.S. Virgin Islands (USVI), Florida, Hawaii, Guam, the Commonwealth of the Northern Mariana Islands (CNMI), and American Samoa for State and Territory Coral Reef Management activities. The objective of the State and Territory Coral Reef Management Grant program is to support comprehensive management programs for the conservation of coral reef ecosystems in these jurisdictions.

Funding Availability: Funding up to $3,000,000 is expected to be available for cooperative agreements to support priority coral reef management activities that address areas 1-10 in the Federal Funding Opportunity. There is no appropriation of funds at this time and the final funding amount will be subject to the availability of federal appropriations. Support in out-years following FY2009 is likewise contingent upon the availability of future funding and the requirements of the Federal agency supporting the project (Department of Commerce or Department of the Interior (DOI)). Each eligible jurisdiction can apply for a maximum of $600,000. A minimum of 40% of the final award amount must be dedicated to the implementation and support of the Local Action Strategy initiative in each jurisdiction. In certain instances, when requested by the applicant and agreed upon by NOAA and DOI, NOAA may hold back a portion of any awarded funds in order to provide specific coral reef conservation technical assistance in the form of contractual or other services. This will only be allowed where such priority technical assistance and/or the lack of sufficient means to deliver it are unavailable at the local level. Such requests proposed herein will be reviewed on a case by case basis with respect to the specific management objectives of this and the local coral reef program. If all funds that become available after Congressional appropriation are not awarded, NOAA and DOI will consult with the eligible applicants on the use of any residual funds. NOAA and DOI will work with each jurisdiction to ensure the greatest degree of success in meeting local, state, territorial and national coral reef management needs.

Statutory Authority: Authority for the NOAA Coral Reef Conservation Grant Program is provided by Section 6403 (Coral Reef Conservation Program) of the Coral Reef Conservation Act of 2000 (16 U.S.C. 6401 et seq.)

Catalog of Federal Domestic Assistance (CFDA) Number: 11.419, Coastal Zone Management Administration Awards.

Application Deadline: Pre-applications must be received no later than 11:59 p.m. Eastern Standard Time on Monday, December 1, 2008. Final applications must be received no later than 11:59 p.m. Eastern Standard Time on Thursday, March 12, 2009.

Address for Submitting Proposals: Final applications should be submitted electronically to: www.grants.gov, the Federal grants portal. If Internet access is unavailable hard copies can be submitted to David Kennedy, NOAA National Ocean Service, NOAA Coral Reef Conservation Program, Office of Response and Restoration, N/ORR, Room 10102, 1305 East-West Highway, Silver Spring, MD 20910.

Information Contacts: Technical point of contact for State and Territory Coral Reef Management is Dana Wusinich-Mendez at 301-713-3155, extension 159 or e-mail at dana.wusinich-mendez@noaa.gov, FAX: 301-713-4367. Address: OCRM/NOAA, N/-ORM3, 1305 East-West Highway, Silver Spring, MD 20910.

Eligibility: Eligible applicants are the governor-appointed point of contact agencies for coral reef activities in each of the jurisdictions of American Samoa, Florida, the Commonwealth of the Northern Mariana Islands, Guam, Hawaii, Puerto Rico, and the U.S. Virgin Islands.

Cost Sharing Requirements: As per section 6403(b)(1) of the Coral Reef Conservation Act of 2000, Federal funds for any coral conservation project funded under this Program may not exceed 50 percent of the total cost of the projects. Therefore, any coral conservation project under this program requires a 1:1 match. Match can come from a variety of public and private sources and can include in-kind goods and services such as private boat use and volunteer labor. Federal sources cannot be considered for matching funds, but can be described in the budget narrative to demonstrate additional leverage. Applicants are permitted to combine contributions from multiple non-federal partners in order to meet the 1:1 match requirement, as long as such contributions are not being used to match any other funds. Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected to be funded. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands.

Please Note: Eligible applicants choosing to apply 48 U.S.C. 1469a(d) should note the use of the waiver and the total amount of funds requested to be waived in the matching funds section of the respective application.

Intergovernmental Review: Applications under this program are not subject to Executive Order 12372, Intergovernmental Review of Federal Programs.

3. Bay Watershed Education and Training (B-WET) Hawaii Program

Summary Description: The purpose of this notice is to solicit proposals for grants to support NOAA's goal of developing a well-informed citizenry involved in decision-making that positively impact our coastal, marine and watershed ecosystems in the state of Hawaii. This opportunity is an annually awarded, competitively-based grant that provides initial funding to: (1) Assist in the development of new programs; (2) encourage innovative partnerships among environmental education programs throughout Hawaii; and (3) support geographically targeted programs to advance environmental education efforts that complement appropriate school requirements. Funded projects provide meaningful science-based outdoor experiences for K-12 students and professional development opportunities for teachers in the area of environmental education as defined in this announcement.

Funding Availability: This solicitation announces that approximately $1,000,000 may be available in FY 2009 in award amounts to be determined by the proposals and available funds. The NOAA Pacific Services Center anticipates that approximately 5 to 15 grants will be awarded with these funds, pending availability of funds. Applicants are hereby given notice that funds have not yet been appropriated for this program. It is anticipated that typical project awards for Priority 1 and 2 (see FFO) will range from approximately $10,000 to $100,000. Applications requesting Federal support from NOAA of more than $100,000 total will not be considered for review or funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government.

Notwithstanding verbal or written assurance that may have been received, there is no obligation on the part of NOAA to cover pre-award costs unless approved by the Grants Officer as part of the terms when the award is made.

Statutory Authority: 15 U.S.C. 1540; 33 U.S.C. 892a.

Catalog of Federal Domestic Assistance (CFDA) Number: 11.473, Coastal Services Center.

Application Deadline: Full proposals must be received must be received by 5:59 Hawaii Time on August 15, 2008.

Address for Submitting Proposals: Applications must be submitted through www.grants.gov, unless an applicant does not have Internet access. In that case, hard copies with original signatures must be postmarked on or before August 15, 2008, and sent to: NOAA Pacific Services Center, 737 Bishop Street, Suite 1550, Honolulu, Hawaii 96813, ATTN: Stephanie Bennett. The postmark will be used to determine the timeliness of the proposal. Applicants submitting hard copy applications must submit one (1) hard copy of the entire application package, a CD copy of the package, including all forms with original signatures. Facsimile transmissions and electronic mail submissions will not be accepted.

Information Contacts: For administrative and technical questions, contact Stephanie Bennett, Federal Program Officer at NOAA Pacific Services Center, 737 Bishop Street, Suite 1550, Honolulu, Hawaii 96813 or by phone at (808) 522-7481, or via e-mail at Stephanie.Bennett@noaa.gov.

Eligibility: Eligible applicants for Priority 1 and 2 are K-12 public and independent schools and school systems, institutions of higher education, commercial and nonprofit organizations, state or local government agencies, and Indian tribal governments. Individual applicants and Federal agencies are not eligible. Federal agencies are not allowed to receive funds under this announcement but may serve as collaborative project partners. The Department of Commerce/ National Oceanic and Atmospheric Administration (DOC/NOAA) is strongly committed to broadening the participation of historically Black Colleges and Universities, Hispanic-serving institutions, Tribal colleges and universities, Alaskan Native and Native Hawaiian institutions, and institutions that service undeserved areas.

Cost Sharing Requirements: No cost sharing is required under this program, however, the NOAA Pacific Services Center strongly encourages applicants to share as much of the costs of the award as possible. Funds from other Federal awards may not be considered matching funds. The nature of the contribution (cash versus in-kind) and the amount of matching funds will be taken into consideration in the review process with cash being the preferred method of contribution.

Intergovernmental Review: Funding applications under the Center are subject to Executive Order 12372, Intergovernmental Review of Federal Programs. It is the state agency's responsibility to contact their state's Single Point of Contact (SPCO) to find out about and comply with the state's process under EO 12372. To assist the applicant, the names and addresses of the SPOCs are listed on the Office of Management and Budget's Web site http://www.whitehouse.gov/omb/grants/spoc.html.

4. CSCOR FY 2009 NGOMEX and CRES

Summary Description: The purpose of this opportunity is to advise the public that NOAA/NOS/NCCOS/CSCOR is soliciting proposals for two separate programs. Program 1 is the Regional Ecosystem Prediction Program on Coral Reef Ecosystem Studies (CRES) From Science to Conservation: Linking Coral Reefs, Coastal Watersheds and their Human Communities in the Pacific Islands. Projects under this program will be 3 to 5 years in duration. The goal of this funding opportunity is to utilize existing scientific tools and approaches (e.g., biophysical models; coupled watershed and hydrodynamic models) within a social, cultural, and economic framework to develop and implement effective coastal ecosystem management practices in the Pacific Islands. Proposals should be regional in scale, interdisciplinary, comprehensive, integrated, and include multiple investigators to develop capabilities for innovative forecasts and predictions for improved management and control capabilities. Program 2 is the Northern Gulf of Mexico Ecosystems and Hypoxia Assessment Program (NGOMEX). NGOMEX has two components. The Modeling the Causes of Hypoxia component takes a regional ecosystem prediction approach to advance model development assessing the association between the northern Gulf hypoxic zone and causative factors. The proposed research for this competition should be 3-5 years in duration. The Modeling the Impacts of Hypoxia component takes an ecosystem stressors approach to advance understanding of hypoxia on ecologically and commercially important living resource populations of the northern Gulf of Mexico ecosystem. These projects should be 3 to 5 years of duration. Funding is contingent upon the availability of Fiscal Year 2009 Federal appropriations. It is anticipated that final recommendations for funding under this announcement will be made by February 2009 and that projects funded under this announcement will have a July 1, 2009 through August 1, 2009 start date. Background information about the NCCOS/CSCOR efforts can be found at http://www.cop.noaa.gov.

Funding Availability: Funding is contingent upon availability of Federal appropriations. NOAA is committed to continual improvement of the grants process and accelerating the award of financial assistance to qualified recipients in accordance with the recommendations of the Business Process Re-engineering Team. In order to fulfill these responsibilities, this solicitation announces that award amounts will be determined by the proposals and available funds. Funds for the Coral Reef Ecosystem Studies From Science to Conservation: Linking Coral Reefs, Coastal Watersheds and their Human Communities in the Pacific Islands will not exceed $200,000 per project per year. (1) It is anticipated that only one project will be awarded for this program with project duration of 3 to 5 years. Funds for the Modeling the Causes of Hypoxia component of the Northern Gulf of Mexico Ecosystems and Hypoxia Assessment program will not exceed $1,000,000. (2) It is anticipated that only one project will be awarded for this program component with project duration of 3 to 5 years. Funds for the Modeling the Impacts of Hypoxia component of the Northern Gulf of Mexico Ecosystems and Hypoxia Assessment program will be up to $500,000 per project per year. (3) It is anticipated that 3 to 5 projects will be awarded for this program component with project duration of 3 to 5 years. Applicants are hereby given notice that funds have not yet been appropriated for this program. In no event will NOAA or the Department of Commerce be responsible for proposal preparation costs if this program fails to receive funding or is cancelled because of other agency priorities. There is no guarantee that sufficient funds will be available to make awards for all qualified projects. Publication of this notice does not obligate NOAA to award any specific project or to obligate any available funds. If one incurs any costs prior to receiving an award agreement signed by an authorized NOAA official, one would do so solely at one's own risk of these costs not being included under the award. Publication of this notice does not obligate any agency to any specific award or to obligate any part of the entire amount of funds available. Recipients and subrecipients are subject to all Federal laws and agency policies, regulations and procedures applicable to Federal financial assistance awards.

Statutory Authority: For the Coral Reef Ecosystem Studies From Science to Conservation: Linking Coral Reefs, Coastal Watersheds and their Human Communities in the Pacific Islands program the program authority is 16 U.S.C. 6403, for the Northern Gulf of Mexico Ecosystems and Hypoxia Assessment Program the program authority is 33 U.S.C. 1442.

Catalog of Federal Domestic Assistance (CFDA) Number: 11.478, Center for Sponsored Coastal Ocean Research—Coastal Ocean Program.

Application Deadline: The deadline for receipt of proposals at the NCCOS/CSCOR office is 3 p.m., Eastern Time for both of the programs. For the Coral Reef Ecosystem Studies proposals are due October 9, 2008. For the Northern Gulf of Mexico proposals are due October 20, 2008.

Address for Submitting Proposals: Applications must be submitted through www.grants.gov, unless an applicant does not have Internet access. In that case, hard copies with original signatures may be sent to: Laura J. Golden 1305 East-West Hwy. Routing Code: N/SCI2, Building: SSMC4, Silver Spring, MD 20910-3278

Information Contacts: Technical Information: Program Managers contact information can be found under each program element listed in B. Program Priorities of the FFO. Business Management Information: Laurie Golden, NCCOS/CSCOR Grants Administrator, 301-713-3338/ext 151, Internet: laurie.golden@noaa.gov.

Eligibility: Eligible applicants are institutions of higher education, other non-profits, state, local, Indian Tribal Governments, commercial organizations and Federal agencies that possess the statutory authority to receive financial assistance. Please note that: (1) NCCOS/CSCOR will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) Non-NOAA Federal applicants will be required to submit certifications or documentation showing that they have specific legal authority to receive funds from the Department of Commerce (DOC) for this research. (4) NCCOS/CSCOR will accept proposals that include foreign researchers as collaborators with a research who has met the above stated eligibility requirements. (5) Non-Federal researchers affiliated with NOAA-University Cooperative/Joint Institutes should comply with joint institutional requirements; they will be funded through grants either to their institutions or to joint institutes.

Cost Sharing Requirements: None.

Intergovernmental Review: Applications under this program are not subject to Executive Order 12372, Intergovernmental Review of Federal Programs.

5. FY 2009 California Bay Watershed Education and Training Program

Summary Description: The California B-WET grant program is a competitively based program that supports existing environmental education programs, fosters the growth of new programs, and encourages the development of partnerships among environmental education programs throughout the San Francisco Bay, Monterey Bay, and Santa Barbara Channel watersheds. Projects support organizations that provide students “meaningful” watershed educational experiences and teachers professional development opportunities in the area of environmental education related watersheds.

Funding Availability: This solicitation announces that approximately $2,000,000 may be available in FY 2009 in award amounts to be determined by the proposals and available funds. About $850,000 will be made available to the San Francisco Bay watershed area, about $700,000 will be made available to the Monterey Bay watershed area, and about $450,000 will be made available to the Santa Barbara Channel watershed area. The National Marine Sanctuary Program anticipates that approximately 35 grants will be awarded with these funds. The California B-WET Program should not be considered a long-term source of funds; applicants must demonstrate how ongoing programs, once initiated, will be sustained.

The National Marine Sanctuary Program anticipates that typical project awards for Meaningful Watershed Experiences and Professional Development in the Area of Environmental Education for Teachers will range from $30,000 to $60,000. Proposals will be considered for funds greater than the specified ranges if there is sufficient demonstration that the project requires additional funds and/or if the proposal includes multiple partners. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Office as part of the terms when the award is made.

Statutory Authority: 33 U.S.C. 893 a(a).

Catalog of Federal Domestic Assistance (CFDA) Number: 11.429, Marine Sanctuary Program.

Application Deadline: Proposals must be received by 5 p.m. Pacific Daylight Time on October 6, 2008.

Address for Submitting Proposals: Applications must be submitted through www.grants.gov, unless an applicant does not have Internet access. In that case, hard copies with original signatures may be sent to: Attn: Seaberry Nachbar, B-WET Program Manager, Monterey Bay National Marine Sanctuary Office, 299 Foam Street, Monterey, CA 93940.

Information Contacts: Please visit the National Marine Sanctuaries CA B-WET Web site at: http://sanctuaries.noaa.gov/news/bwet/welcome.html or contact Seaberry Nachbar, Monterey Bay National Marine Sanctuary office, 299 Foam Street, Monterey, CA 93940, or by phone at 831-647-4201, or fax to 831-647-4250, or via Internet at seaberry.nachbar@noaa.gov.

Eligibility: Eligible applicants are K-through-12 public and independent schools and school systems, institutions of higher education, nonprofit organizations, state or local government agencies, and Indian tribal governments. The Department of Commerce/ National Oceanic and Atmospheric Administration (DOC/NOAA) is strongly committed to broadening the participation of historically black colleges and universities, Hispanic serving institutions, tribal colleges and universities, and institutions that service undeserved areas. The National Marine Sanctuary Program encourages proposals involving any of the above institutions.

Cost Sharing Requirements: No cost sharing is required under this program; however, the National Marine Sanctuary Program strongly encourages applicants applying for either area of interest to share as much of the costs of the award as possible. Funds from other Federal awards may not be considered matching funds. The nature of the contribution (cash versus in-kind) and the amount of matching funds will be taken into consideration in the review process with cash being the preferred method of contribution.

Intergovernmental Review: Applications under this program are not subject to Executive Order 12372, Intergovernmental Review of Federal Programs.

6. International Coral

Summary Description: The NOAA Coral Reef Conservation Grant Program, as authorized under the Coral Reef Conservation Act of 2000, provides matching grants of financial assistance for international coral reef conservation projects. The Program solicits proposals under four funding categories: (1) Promote Watershed Management in the Wider Caribbean, Brazil, and Bermuda; (2) Support Planning for Effective Marine Protected Area Management; (3) Encourage the Development of National Networks of Marine Protected Areas in the Wider Caribbean, Bermuda, Brazil, Southeast Asia, and the South Pacific; and (4) Promote Regional Socio-Economic Training and Monitoring in Coral Reef Management in the Wider Caribbean, Brazil, Bermuda, the Western Indian Ocean, the Red Sea, the South Pacific, South Asia, and Southeast Asia. Each funding category has specific applicant and project eligibility criteria.

Funding Availability: NOAA announces the availability of up to $500,000 in FY 2009 to support grants and cooperative agreements under the International Coral Reef Grant Program. These funds will be used to support financial assistance awards under the program categories listed in section I.B. Program Priorities and III.C. Other Criteria that Affect Eligibility of the FFO. Applicants that are invited to submit a final application may be requested to revise award objectives, work plans, or budgets prior to submittal of the final application. The amount of funds to be awarded and the final scope of activities will be determined in pre-award negotiations among the applicant, NOAA Grants Management Division (GMD) and relevant NOAA staff. Up to approximately $500,000 may be available in FY 2009 to support grants and cooperative agreements under this program. Approximately $75,000-$100,000 may be allocated to each of the four project categories listed below, with the following award ranges: 1. Watershed Management: $30,000-$50,000; 2. Planning for Effective Marine Protected Area Management: Single sites: Up to $50,000; Multiple sites: Up to $80,000; 3. MPA National Networks: $40,000-$50,000; 4. Regional Socio-Economic Monitoring projects: $15,000-$30,000 Pre- and final applications with requests over the limit of each category will NOT be accepted. Pre- and final applications must be submitted under only one of the above mentioned categories. Funding will be subject to the availability of federal appropriations. Support in outyears after FY 2009 is contingent upon the availability of funds. Applicants should never begin a project in expectation of funds under this program. The International Program Office reserves the right to transfer any given proposal to another category within the International program if the proposal better addresses the criteria of another category.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.463, Habitat Conservation.

Application Deadline: Pre-applications must be received by NOAA by 5 p.m., U.S. Eastern Time, on Monday, November 3, 2008. Final applications must be received by NOAA by 5 p.m. U.S. Eastern Time, on Friday, February. 13, 2009.

Address for Submitting Proposals: 1. Pre-application Submission Information: Pre-applications may be submitted by surface mail or e-mail by 5 p.m., U.S. Eastern Time, November 3, 2008. Submissions by e-mail are preferred to coral.grants@noaa.gov. Acceptable electronic formats for narratives, attachments, and images are limited to Adobe Acrobat (.PDF), or Microsoft Word files. If submitting by surface mail, please include an electronic copy of the pre-application on CD. Federal financial assistance forms are NOT required to be submitted with the pre-application. If surface mail is selected, paper pre-applications must be submitted to: David Kennedy, NOAA Coral Reef Conservation Program Coordinator, Office of Response and Restoration, N/ORR, Room 10102, NOAA National Ocean Service, 1305 East-West Highway, Silver Spring, MD 20910. Fax submittals will also be accepted for pre-applications (Fax: 301-713-4389). b. Please note that late applications cannot be considered under any circumstances including e-mail transmission malfunctions.

Electronic files of pre-applications must arrive without viruses. If attachments cannot be opened due to a virus or they arrive with a virus, the pre-applications will be disqualified. You may call us at 301-713-3078 x218 before the deadline to ensure that your pre-application arrived.

2. Final Application Submission Information: Applicants who are invited to submit a final application may be required to make modifications or revisions to the project and budget narratives and must submit these narratives with a Federal financial assistance award application package (federal forms described below). Only applicants who submitted pre-applications by the deadline will be eligible to be considered for invitations to submit a final application by 5 p.m., U.S. Eastern Time, on February 13, 2009. The applicant may submit the final application (narratives, federal forms, and supporting documentation) in one of two ways: Applications must be submitted through http://www.grants.gov, unless an applicant does not have Internet access. In that case, hard copies with original signatures may be sent to: Scot Frew, NOAA/NOS International Program Office, 1315 East-West Highway, 5th Floor, N/IP, Room 5735, Silver Spring, MD 20910.

Applicants should consider the delivery time when submitting their pre- and final applications from international or remote areas. Late applications by any method cannot be accepted under any circumstances.

Information Contacts: Technical point of contact for International Coral Reef Conservation is Scot Frew, NOAA/NOS International Program Office, 301-713-3078, extension 220 or e-mail at scot.frew@noaa.gov.

Eligibility: Eligible applicants include institutions of higher education, U.S. and international non-profit organizations, and commercial organizations. U.S. federal agencies and individuals are not eligible. For specific country eligibility per category, please refer to individual category descriptions in Section V of the Federal Funding Opportunity. The proposed work must be conducted at a non-U.S. site. Eligible countries are defined as follows: The Wider Caribbean includes the 37 States and territories that border the marine environment of the Gulf of Mexico, the Caribbean Sea, and the areas of the Atlantic Ocean adjacent thereto, and Brazil and Bermuda, but excluding areas under U.S. jurisdiction. The South Pacific Region includes South Pacific Regional Environment Program's Pacific island countries and territories, including the Federated States of Micronesia, Republic of Palau, and the Republic of the Marshall Islands, but excluding U.S. territories and four developed country members. South Asia includes India, Sri Lanka, the Maldives, Pakistan, and Bangladesh. Southeast Asia Region includes Brunei, Cambodia, Indonesia, Laos, Malaysia, Philippines, Singapore, Thailand, Timor-Leste, and Vietnam. The Western Indian Ocean Region includes Comoros, France (La Reunion), Kenya, Madagascar, Mauritius, Mozambique, Seychelles, the United Republic of Tanzania, and South Africa. The Red Sea Region includes five member countries of the Regional Organization for the Conservation of the Environment of the Red Sea and Gulf of Aden (PERSGA): Djibouti, Egypt, Jordan, the Kingdom of Saudi Arabia, and Yemen.

Cost Sharing Requirements: The International Coral Grant Program is subject to the matching fund requirements described below. As per section 6403(b)(1) of the Coral Reef Conservation Act of 2000, Federal funds for any coral conservation project funded under this Program may not exceed 50 percent of the total cost of the projects. Therefore, any coral conservation project under this program requires a 1:1 match. Match can come from a variety of public and private sources and can include in-kind goods and services such as private boat use and volunteer labor. Federal sources cannot be considered for matching funds, but can be described in the budget narrative to demonstrate additional leverage. Applicants are permitted to combine contributions from multiple non-federal partners in order to meet the 1:1 match recommendation, as long as such contributions are not being used to match any other funds.

Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected to be funded. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands.

Please Note: Eligible applicants choosing to apply 48 U.S.C. 1469a(d) should note the use of the waiver and the total amount of funds requested to be waived in the matching funds section of the respective pre- and final applications.

Intergovernmental Review: Applications under the International Coral Reef Grant program are not subject to Executive Order 12372, Intergovernmental Review of Federal Programs.

7. NOAA's National Height Modernization Program

Summary Description: The purpose of this notice is to solicit proposals for cooperative agreements and/or grants between NOAA and partnering entities in the United States, implementing NOAA's National Height Modernization Program (NHMP) Plan. Proposals submitted in response to this announcement should contribute to the beneficial public outcomes associated with the five priority issues in this plan which consists of enhancing the vertical component of the National Spatial Reference System (NSRS); enabling users to access the vertical component of the NSRS; outreach and education regarding geospatial issues and activities as they relate to NHMP; capacity building and technology transfer as they relate to NHMP; coordination, cooperation, and collaboration with other entities to accomplish common goals as they relate to NHMP. This competition is focused on the geography of the United States and its territories in response to NOAA's NHMP Regional Implementation Plan and subsequent congressional appropriations. The program priorities for this opportunity support NOAA's mission support goal of: Commerce and Transportation, Enable safe, secure, and seamless movement of goods and people in the United States transportation system. Priorities addressing this mission goal also frequently are found to support NOAA's other mission goals: Improve protection, restoration, and management of coastal and ocean resources through ecosystem-based management; increase understanding of climate variability and change; and improve accuracy and timeliness of weather and water information.

Funding Availability: Total anticipated funding for all awards is approximately $2,500,000 and is subject to the availability of FY 2009 appropriations. The anticipated federal funding per award (min-max) is approximately $50,000 to $1,200,000 per year. The anticipated number of awards ranges from 10 to 20, approximately, and will be adjusted based on available funding and quality of received proposals.

Statutory Authority: 33 U.S.C. 883a and 33 U.S.C. 883d.

Catalog of Federal Domestic Assistance (CFDA) Number: 11.400, Geodetic Surveys and Services (Applications of the National Geodetic Reference System).

Application Deadline: Letters of Intent (LOIs) must be received by the National Ocean Service by 4 p.m. ET on August 1, 2008. Full proposals must be received no later than 4 p.m. ET, September 2, 2008.

Address for Submitting Proposals: A letter of intent (LOI) may be sent via e-mail to Gilbert.Mitchell@noaa.gov. Insert FY 2009 National NHMP Program as the subject line of the e-mail containing the LOI. Applicants submitting multiple LOIs must use a unique project title for each LOI and may send all LOIs in one e-mail or in multiple e-mails. If hard copy LOIs are submitted, an original and two copies should be sent to the attention of Gilbert Mitchell at 1315 East-West Highway, N/NGS1, Room 9356, SSMC3, Silver Spring, MD 20910 contact him at 301-713-3228x114 or e-mail Glbert.Mitchell@NOAA.gov. Full proposal application packages must be submitted through Grants.gov. If an applicant does not have Internet access, one set of originals (signed) and two copies of the hard copy proposals and related forms should be mailed to the attention of Gilbert Mitchell at 1315 East-West Highway, N/NGS1, Room 9356, SSMC3, Silver Spring, MD 20910 contact him at 301-713-3228x114 No e-mail or fax copies will be accepted.

Information Contacts: For administrative questions, contact Gilbert Mitchell, NOAA NOS, SSMC3; 1315 East-West Highway, Silver Spring, MD 20910, or by phone at 301-713-3228 Extension 114, or by fax 301-713-4176, or via e-mail at Gilbert.Mitchell@noaa.gov. For technical questions regarding this announcement, contact Renee Shields, NOAA NOS SSMC3; 1315 East-West Highway, Silver Spring, MD 20910; or contact her by phone at 301-713-3231 Extension 115, or by fax 301-713-4176, or via e-mail at Renee.Shields@noaa.gov.

Eligibility: Eligible funding applicants are institutions of higher education, state, local and Indian tribal governments.

Cost Sharing Requirements: There is no requirement for cost sharing.

Intergovernmental Review: Funding applications under the National Ocean Service are subject to Executive Order 12372, Intergovernmental Review of Federal Programs. It is the state agency's responsibility to contact their state's Single Point of Contact (SPCO) to find out about and comply with the state's process under EO 12372. To assist the applicant, the names and addresses of the SPOCs are listed on the Office of Management and Budget's Web site http://www.whitehouse.gov/omb/grants/spoc.html.

8. National Coastal and Estuarine Research and Technology Program

Summary Description: The National Oceanic and Atmospheric Administration (NOAA) seeks to establish a national estuarine research and technology program which operates in partnership with the National Estuarine Research Reserve System (NERRS). Funds will be used to conduct collaborative research and transform the best available science into practical innovative tools that coastal managers can use to detect, prevent, and reverse the impacts of coastal pollution and habitat degradation. Additionally, the program will provide coastal and estuarine managers a better understanding of what tools are available, how well they work, and how best to apply them to detect, prevent, and reverse the impacts of coastal pollution and habitat degradation.

Funding Availability: Funding is contingent upon the availability of Federal appropriations. NOAA's Estuarine Reserves Division anticipates up to $5,232,000 will be available to fund a National Coastal and Estuarine Research and Technology Program under this competition. Applicants are hereby given notice that funds have not yet been appropriated for this program. In no event will NOAA or the Department of Commerce be responsible for proposal preparation costs if this program fails to receive funding or is cancelled because of other agency priorities. There is no guarantee that sufficient funds will be available to make awards for all qualified projects. Publication of this notice does not oblige NOAA to award any specific project or to obligate any available funds. If one incurs any costs prior to receiving an award agreement signed by an authorized NOAA official, one would do so solely at one's own risk of these costs not being included under the award. Recipients and subrecipients are subject to all Federal laws and agency policies, regulations and procedures applicable to Federal financial assistance awards.

Statutory Authority: Section 310 of the Coastal Zone Management Act of 1972, as amended, 16 U.S.C. 1456c.

Catalog of Federal Domestic Assistance (CFDA) Number: 11.419, Coastal Zone Management Administration Awards.

Application Deadline: Applications must be submitted no later than 5 p.m. (EDT) on September 9, 2008. No facsimile or electronic mail applications will be accepted.

Address for Submitting Proposals: Applications must be submitted through www.grants.gov, unless an applicant does not have Internet access. In that case, hard copies with original signatures may be sent to: Erica Seiden, 1305 East-West Highway, N/ORM5, SSMC4 10542, Silver Spring, MD 20910. Facsimile transmissions and electronic mail submission of full proposals will not be accepted.

Information Contacts: Technical Information: Erica Seiden, OCRM/ERD Project Manager, Erica.Seiden@noaa.gov, 301-563-1172. Business Management Information: Erica Seiden, OCRM/ERD Project Manager, Erica.Seiden@noaa.gov, 301-563-1172.

Eligibility: Eligible applicants are non-Federal institutions of higher education, other non-profits, commercial organizations, and state and local governments that possess the statutory authority to receive financial assistance. Please note that: (1) The Office of Ocean and Coastal Resource Management, Estuarine Reserves Division (OCRM/ERD) will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) OCRM/ERD will accept proposals that include foreign researchers as collaborators with a researcher who has met the above stated eligibility requirements.

Cost Sharing Requirements: None.

Intergovernmental Review: Applications under this program are not subject to Executive Order 12372, “Intergovernmental Review of Federal Programs.”

9. National Estuarine Research Reserve Graduate Research Fellowship Program FY2009

Summary Description: The National Estuarine Research Reserve System of NOAA announces the availability of graduate research fellowships. The National Estuarine Research Reserve System (NERRS) consists of estuarine areas of the United States and its territories which are designated and managed for research and educational purposes. Each reserve within the system is chosen to reflect regional differences and to include a variety of ecosystem types in accordance with the classification scheme of the national program as presented in 15 CFR part 921. Each reserve supports a wide range of beneficial uses of ecological, economic, recreational, and aesthetic values which are dependent upon the maintenance of a healthy ecosystem. The sites provide habitats for a wide range of ecologically and commercially important species of fish, shellfish, birds, and other aquatic and terrestrial wildlife. Each reserve has been designed to ensure its effectiveness as a conservation unit and as a site for long-term research and monitoring. As part of a national system, the reserves collectively provide an excellent opportunity to address research questions and estuarine management issues of national significance. For detailed descriptions of the sites, refer to the NERR Web site at http://www.nerrs.noaa.gov/fellowship or contact the site staff.

Funding Availability: The Estuarine Reserves Division anticipates that 25 Graduate Research Fellowships will be competitively awarded to provide funding to qualified graduate students whose research occurs within the boundaries of at least one reserve. Minority students are encouraged to apply for these fellowships. The amount of the fellowship is $20,000; at least 30% of total project cost match is required by the applicant (i.e. $8,572 match for $20,000 in federal funds for a total project cost of $28,572).

Statutory Authority: Section 315 of the Coastal Zone Management Act of 1972, as amended CZMA), 16 U.S.C. 1461, establishes the National Estuarine Research Reserve System (NERRS). 16 U.S.C. 1461(e)(1)(B) authorizes the Secretary of Commerce to make grants to any coastal state or public or private person for purposes of supporting research and monitoring within a National Estuarine Research Reserve that are consistent with the research guidelines developed under subsection (c).

Catalog of Federal Domestic Assistance (CFDA) Number: 11.420, Coastal Zone Management Estuarine Research Reserves.

Application Deadline: Applications must be submitted through www.grants.gov no later than 11 p.m. (EST) November 1, 2008 or postmarked no later than November 1, 2008.

Address for Submitting Proposals: Applications must be submitted through www.grants.gov, unless an applicant does not have Internet access. In that case, hard copies with original signatures may be sent to: Alison Krepp, Graduate Research Fellowship Coordinator, NOAA Estuarine Reserves Division, 1305 East West Highway, N/ORM 5, SSMC 4 Station 10503 Silver Spring MD 20910.

Information Contacts: For questions regarding the program and application process, please contact Alison Krepp (301-713-3155 ext. 105) at NOAA/Estuarine Reserves Division, 1305 East-West Highway, N/ORM 5, SSMC 4, Station 10503, Silver Spring, MD 20910 or via e-mail: Alison.Krepp@noaa.gov, or fax: 301-713-4012. The program Web site can be accessed at http://www.nerrs.noaa.gov/fellowship. If the Web page does not provide sufficient information and Alison Krepp is unavailable, please contact Erica Seiden at (301) 713-3155 ext. 172 or erica.seiden@noaa.gov. For further information on specific research opportunities at National Estuarine Research Reserves, contact the site staff listed in Appendix I of the FFO.

Eligibility: Awards are normally made to the fellow's graduate institution through the use of a grant. However, institutions eligible to receive awards include institutions of higher education, other non-profits, commercial organizations, and state and local governments. All reserve staff are ineligible to submit an application for a fellowship under this announcement. Funds are expected to be available on a competitive basis to qualified graduate students for research within a reserve(s) leading to a graduate degree. Applicants must be admitted to or enrolled in a full-time master's or doctoral program at a U.S. accredited university in order to be eligible to apply. Applicants should have completed a majority of their graduate course work at the beginning of their fellowship and have an approved thesis research program. Minority students are encouraged to apply.

Cost Sharing Requirements: Requested federal funds must be matched by at least 30 percent of the TOTAL cost, not the federal share, of the project (i.e. $8,572 match for $20,000 in federal funds for a total project cost of $28,572). Requested overhead costs and institutional fees that do not qualify as direct costs under fellowship awards are limited to 10% of the federal amount. Waived overhead costs may be used as match.

Intergovernmental Review: Applications under this program are subject to Executive Order 12372, “Intergovernmental Review of Federal Programs.” Applicants should contact their State Single Point of Contact (SPOC) to find out about and comply with the State's process under EO12372. The names and addresses of the SPOCs are listed in the Office of Management and Budget's Web site at http://www.whitehouse.gov/omb/grants/spoc.html.

10. National Estuarine Research Reserve Land Acquisition and Construction Program FY 2009

Summary Description: This funding opportunity announces funding for land acquisition/construction awards. The National Estuarine Research Reserve System consists of estuarine areas of the United States and its territories which are designated and managed for research and educational purposes. Each reserve within the system is chosen to represent different bio-geographic regions and to include a variety of ecosystem types in accordance with the classification scheme of the national program as presented in 15 CFR part 921. Through the funding of designated reserve agencies and universities to undertake land acquisition and construction projects that support the NERRS purpose, NOAA will strengthen protection of key land and water areas; enhance long-term protection of the area for research and education; and provide for facility and exhibit construction.

Funding Availability: This funding opportunity announces that approximately $6.89 million may be available to designated reserve agencies or universities through this announcement for fiscal year 2009, subject to availability of funding. It is anticipated that 5 to 23 total projects may be funded. Awards will be issued as competitive grants. It is anticipated that the awards will run for up to two years. In the past, funding for land acquisition/construction awards has ranged in amount from approximately $50,000 to $3 million.

Statutory Authority: Authority for the NERR program is provided by 16 U.S.C. 1461(e)(1)(A)(i),(ii), and (iii).

Catalog of Federal Domestic Assistance (CFDA) Number: 11.420, Coastal Zone Management Estuarine Research Reserves.

Application Deadline: Complete grant applications must be received or postmarked by 5 p.m., Eastern Standard Time, November 30, 2008.

Address for Submitting Proposals: Applications must be submitted through www.grants.gov, unless an applicant does not have Internet access. In that case, hard copies with original signatures may be sent to: NOS/OCRM/ERD, Nina Garfield, 1305 East-West Highway, Room 10505, Silver Spring, MD 20910.

Information Contacts: Administrative and Technical questions regarding the program and application process, please contact Nina Garfield, program coordinator, at NOAA/Estuarine Reserves Division, 1305 East-West Highway, N/ORM5, SSMC4, Station 10505, Silver Spring, MD 20910 or via phone: 301-563-1171 ext. 171, e-mail: contact Nina.Garfield@noaa.gov, or fax: 301-713-4363. The program Web site can be accessed at http://www.ocrm.nos.noaa.gov/nerr.html. Other questions should be directed to Nina Garfield of ERD at 301-563-1171 ext. 171, or fax 301-713-4012, or via Internet at Nina.Garfield@noaa.gov or Laurie McGilvray at (301) 713-3155 ext. 158, laurie.mcgilvray@noaa.gov.

Eligibility: Eligible applicants are NERR lead state agencies or universities in coastal states. Eligible applicants should have completed all requirements as stated in the NERRS regulations at Title 15—Commerce and Foreign Trade, Chapter IX—National Oceanic and Atmospheric Administration, Department of Commerce, Part 921—National Estuarine Research Reserve System Regulations (15 CFR part 921) http://nerrs.noaa.gov/Background_Regulations.html.

Cost Sharing Requirements: The amount of federal funds requested must be matched by the applicant: 30 percent total project match for construction awards and 50 percent total project match for land acquisition awards. Cash or in-kind contributions directly benefiting the project may be used to satisfy the matching requirements. If using Reserve land acquisition banked match, a list of the banked match must be included with the application. Applicants must identify all match sources and amounts equal to that requested above.

Intergovernmental Review: Applications under this program are subject to Executive Order 12372, “Intergovernmental Review of Federal Programs.” Applicants should contact their State Single Point of Contact (SPOC) to find out about and comply with the States process under EO12372. The names and addresses of the SPOCs are listed in the Office of Management and Budgets Web site at http://www.whitehouse.gov/omb/grants/spoc.html.

Oceanic and Atmospheric Research (OAR)

1. Climate Program Office for FY 2009

Summary Description: NOAA'S Climate Mission Goal is to understand climate variability and change to enhance society's ability to plan and respond. The long-term climate efforts of NOAA are designed to develop a predictive understanding of variability and change in the global climate system, and to advance the application of this information in climate-sensitive sectors through a suite of process research, observations and modeling, and application and assessment activities. The NOAA Climate Program Office coordinates climate activities across all NOAA in fulfillment of NOAA's Climate Mission Goal. The Program partners with Federal, academic, private, and international research institutions and is a key contributing element of the U.S. Climate Change Science Program (CCSP).

Funding Availability: In FY 2007, approximately $8M in first-year funding was available for 94 new awards. Similar funds and number of awards are anticipated in FY 2009. Please be advised that the number of new awards and funding levels will depend upon the final FY 2009 budget appropriations. It is anticipated that awards will be up to three years in length and cost between $50,000 and $200,000 per year. Federal funding for FY 2010 may be used to fund some awards submitted under this Competition. Current or previous grantees are eligible to apply for a new award that builds on, but does not replicate, activities covered in the current or previous award. Current grantees should not apply for supplementary funding through this announcement.

Statutory Authority: 49 U.S.C. 47720(b), 15 U.S.C. 2904, 15 U.S.C. 2931-2934.

Catalog of Federal Domestic Assistance (CFDA) Number: 11.431, Climate and Atmospheric Research.

Application Deadline: Full applications for all Competitions must be received by 5 p.m. Eastern Time, October 9, 2008. Letters of Intent for all Competitions, although not required, should be received by 5 p.m. Eastern Time, August 11, 2008. LOIs should be submitted by e-mail to the identified Competition Manager.

Address for Submitting Proposals: 1. Letter of Intent Submission LOIs should be submitted by e-mail to the identified NOAA Competition Manager listed with each Competition in the Program Priorities section. If an applicant does not have Internet access, LOI hard copies may be sent to the Competition Managers. Hard copies should be sent to NOAA Climate Program Office (R/CP1), SSMC3, Room 12112, 1315 East-West Highway, Silver Spring, MD 20910 or faxed to 301-713-0518. Please allow two weeks after receipt for a response. 2. Full Applications must be submitted through www.grants.gov. If an applicant does not have Internet access, the CPO Grants Manager Diane Brown should be contacted by mail at NOAA Climate Program Office (R/CP1), SSMC3, Room 12112, 1315 East-West Highway, Silver Spring, MD 20910 for hard copy submission instructions. Please allow two weeks after receipt for a response.

Information Contacts: Please visit the CPO Web site for further information http://www.climate.noaa.gov/ or contact the CPO Grants Manager, Diane Brown by mail (see Address above). Please allow up to two weeks after receipt for a response.

Eligibility: Eligible applicants are institutions of higher education, other nonprofits, commercial organizations, international organizations, and state, local and Indian tribal governments. Federal agencies or institutions are not eligible to receive Federal assistance under this notice.

Cost Sharing Requirements: None.

Intergovernmental Review: Applications under this program are not subject to Executive Order 12372, Intergovernmental Review of federal programs.

2. 2009 NMFS-Sea Grant Fellowships in Marine Resource Economics

Summary Description: The Graduate Fellowship Program generally awards two new PhD fellowships each year to students who are interested in careers related to the development and implementation of quantitative methods for assessing the economics of the conservation and management of living marine resources. Fellows will work on thesis problems of public interest and relevance to NMFS under the guidance of NMFS mentors at participating NMFS Science Centers or Laboratories. The NMFS-Sea Grant Fellowships in Marine Resource Economics meets NOAA's Mission goal of “Protect, Restore and Manage the Use of Coastal and Ocean Resources Through Ecosystem-Based Management.”

Funding Availability: The NMFS-Sea Grant Joint Graduate Fellowship Program in Marine Resource Economics expects to support two new fellowships for up to 2 years for each fellowship.

Statutory Authority: Authority for the Resource Economics Graduate Fellowship Program is provided by the following: 33 U.S.C. 1127(a).

Catalog of Federal Domestic Assistance (CFDA) Number: 11.417, Sea Grant Support.

Application Deadline: Applications must be received by 4 pm, Eastern Time February 20, 2009 by the National Sea Grant Office (NSGO). For applications submitted through www.grants.gov, a date and time receipt indication is included and will be the basis of determining timeliness. The State Sea Grant programs are encouraged to ask for applications from fellowship applicants a month before the due date to facilitate the entry of non-electronic applications into Grants.gov.

Address for Submitting Proposals: Applications from Sea Grant programs must be submitted through www.grants.gov. Facsimile transmission and electronic mail submission of applications will not be accepted.

Information Contacts: Contact Miguel Lugo, National Sea Grant College Program, 1315 East-West Highway, Silver Spring, MD 20910; tel: (301) 734-1075; e-mail: Miguel.Lugo@noaa.gov.

Eligibility: Prospective Fellows must be United States citizens. At the time of application, prospective Marine Resource Economics Fellows must be admitted to a PhD degree program in natural resource economics or a related field at an institution of higher education in the United States or its territories or submit a signed letter from the institution indicating provisional acceptance to a PhD degree program conditional on obtaining financial support such as this fellowship. Applications must be submitted by the institution of higher education, which may be any such institution in the United States or its territories.

Cost Sharing Requirements: Of the $38,500 award, 50 percent ($19,250) will be contributed by NMFS, 33 ⅓ percent ($12,833) by the National Sea Grant Office (NSGO), and 16 ⅔ percent ($6,417) by the institution of higher education as the required 50 percent match of NSGO funds.

Intergovernmental Review: Applications under this program are not subject to Executive Order 12372, Intergovernmental Review of Federal Programs.

3. 2009 NMFS-Sea Grant Fellowships in Population Dynamics

Summary Description: The Graduate Fellowship Program generally awards two new PhD fellowships each year to students who are interested in careers related to the development and implementation of quantitative methods for assessing the economics of the conservation and management of living marine resources. Fellows will work on thesis problems of public interest and relevance to NMFS under the guidance of NMFS mentors at participating NMFS Science Centers or Laboratories. The NMFS-Sea Grant Fellowships in Population Dynamics meets NOAA's Mission goal of “Protect, Restore and Manage the Use of Coastal and Ocean Resources Through Ecosystem-Based Management.”

Funding Availability: The Graduate Fellowship Program awards at least two new PhD fellowships each year to students who are interested in careers related to the population dynamics of living marine resources and the development and implementation of quantitative methods for assessing their status. The award for each Fellowship, contingent upon the availability of Federal funds, will be a multi-year cooperative agreement in the amount of $38,500 per year for up to three years. This involvement includes serving for 10-20 days aboard a research or commercial vessel during a scientific survey or experimental activity. Additionally, the Fellow may work on his/her thesis research or related activity at a participating NMFS facility. The Fellow's work will be overseen by a NMFS mentor who will provide advice and guidance.

Statutory Authority: Authority for the Population Dynamics Graduate Fellowship Program is provided by the following: 33 U.S.C. 1127(a).

Catalog of Federal Domestic Assistance (CFDA) Number: 11.417, Sea Grant Support.

Application Deadline: Applications must be received by 4 p.m., Eastern Time February 20, 2009 by the National Sea Grant Office (NSGO). For applications submitted through Grants.gov APPLY, a date and time receipt indication is included and will be the basis of determining timeliness. The State Sea Grant programs are encouraged to ask for applications from fellowship applicants a month before the due date to facilitate the entry of non-electronic applications into Grants.gov.

Address for Submitting Proposals: Applications from Sea Grant programs must be submitted through www.grants.gov. Facsimile transmission and electronic mail submission of applications will not be accepted.

Information Contacts: Contact Miguel Lugo, National Sea Grant College Program, 1315 East-West Highway, Silver Spring, MD 20910; tel: (301) 734-1075; e-mail: Miguel.Lugo@noaa.gov.

Eligibility: Prospective Fellows must be United States citizens. At the time of application, prospective Population Dynamics Fellows must be admitted to a PhD degree program in population dynamics or a related field such as applied mathematics, statistics, or quantitative ecology at an institution of higher education in the United States or its territories, or submit a signed letter from the institution indicating provisional acceptance to a PhD degree program conditional on obtaining financial support such as this fellowship. Applications must be submitted by the institution of higher education, which may be any such institution in the United States or its territories.

Cost Sharing Requirements: Of the $38,500 award, 50 percent ($19,250) will be contributed by NMFS, 33 ⅓ percent ($12,833) by the National Sea Grant Office (NSGO), and 16 ⅔ percent ($6,417) by the institution of higher education as the required 50 percent match of NSGO funds.

Intergovernmental Review: Applications under this program are not subject to Executive Order 12372, Intergovernmental Review of Federal Programs.

4. 2010 Dean John A. Knauss Marine Policy Fellowship (Knauss Fellowship Program)

Summary Description: This notice announces that applications may be submitted for the Dean John A. Knauss Marine Policy Fellowship (Knauss Fellowship). The Knauss Fellowship is a program initiated by the National Oceanic and Atmospheric Administration (NOAA) National Sea Grant Office (NSGO), in fulfilling its broad educational responsibilities and legislative mandate of the Sea Grant Act, to provide educational experience in the policies and processes of the Legislative and Executive Branches of the Federal Government to graduate students in marine and aquatic-related fields. The Knauss Fellowship meets NOAA's Mission goal of Protect, Restore and Manage the Use of Coastal and Ocean Resources Through Ecosystem-Based Management.

Funding Availability: The SGCP program receives and administers the overall cooperative agreement of $44,000 per student on behalf of each Fellow selected from their program. Of this amount, the local Sea Grant program provides $34,000 to each Fellow for stipend and living expenses (per diem). $8,000 will be used to cover mandatory health insurance for the Fellow and moving expenses. Any remaining funds of the $8,000 shall be used for the fellow during the Fellowship year, first to satisfy academic degree-related activities, and second for Fellowship-related activities. Finally, up to $2,000 from the total $44,000 can be used to cover placement week costs. Indirect costs are not allowable from the Federal funds either for the Fellowships or for any costs associated with the Fellowships, including the $2,000 budgeted for placement week. These costs, though, can be denoted as matching funds. During the Fellowship, the host may provide supplemental funds for work-related travel by the Fellow. The SGCP awards 30-50 agreements each year. Not less than 30 applicants will be selected, of which the selected applicants assigned to the Congress maybe limited to 10.

Statutory Authority: 33 U.S.C. 1127(b).

Catalog of Federal Domestic Assistance (CFDA) Number: 11.417, Sea Grant Support.

Application Deadline: Applications from prospective fellows to the State Sea Grant College Programs (SGCP) are due February 20, 2009. Contact your state Sea Grant program (see IV.A. of the Federal Funding Opportunity for program contact information) for information on deadlines. Selected applications from the sponsoring SGCP are to be received in the National Sea Grant Office (NSGO) through Grants.gov no later than 5 p.m. Eastern Daylight Time (EDT) on April 03, 2009. For applications submitted through Grants.gov, a date and time receipt indication is included and will be the basis of determining timeliness.

Address for Submitting Proposals: Eligible graduate students must submit applications to the SGCP. The addresses and contact information for each SGCP can be found at http://www.seagrant.noaa.gov/other/programsdirectors.html. The addresses can also be received from Miguel Lugo, Knauss Fellowship Program Manager, National Sea Grant College Program, 1315 East-West Highway, R/SG, Rm 11718, Silver Spring, MD 20910. After the State Sea Grant Program review, selected applications from the sponsoring SGCP must be submitted through www.grants.gov. SGCP without Internet access may send hard copy proposals to Miguel Lugo at the above address.

Information Contacts: Contact Miguel Lugo, Knauss Fellowship Program Manager, National Sea Grant College Program, 1315 East-West Highway, R/SG, Rm 11718, Silver Spring, MD 20910; tel: (301) 734-1077 x1075.

Eligibility: Any student, regardless of citizenship, who, on February 20, 2009, is in a graduate or professional program in a marine or aquatic-related field at a United States accredited institution of higher education in the United States or U.S. Territories may apply.

Cost Sharing Requirements: There will be the one-third required cost share of the total cost of the award for those applicants selected as legislative fellows.

Intergovernmental Review: Applications under this program are not subject to Executive Order 12372, Intergovernmental Review of Federal Programs.

5. FY 2009 Joint Hurricane Testbed

Summary Description: The Office of Oceanic and Atmospheric Research (OAR), National Oceanic and Atmospheric Administration (NOAA), is soliciting LOIs (Letters of Intent) under the United States Weather Research Program (USWRP), as administrated by the USWRP Joint Hurricane Testbed (JHT). This notice also provides guidelines for the submission of full proposals. This notice describes opportunities and application procedures for the transfer of relevant research and technology advances into tropical cyclone analysis and forecast operations. This notice calls for researchers to submit proposals to test and evaluate, and modify if necessary, in a quasi-operational environment, their own scientific and technological research applications. Projects satisfying metrics for success and operational constraints may be selected for operational implementation by the operational center(s) after the completion of the JHT-funded work. The period of the award is from one to two years. This opportunity addresses the NOAA mission goal of “Serving Society's Needs for Weather and Water Information.”

Funding Availability: The estimate for total JHT funding that will be available in FY 2009 is $1,250,000, which will likely be used to fund 10-15 new projects. Award amounts for previous JHT grants have been mostly between $50,000 and $200,000 per year. A similar range is expected for this announcement. Initial and renewal funding of any JHT proposals is contingent upon availability of these funds. In no event will NOAA or the Department of Commerce be responsible for proposal preparation costs.

Statutory Authority: 49 U.S.C. 44720(b), 33 U.S.C. 883d.

Catalog of Federal Domestic Assistance (CFDA) Number: 11.431, Climate and Atmospheric Research.

Application Deadline: Letters of Intent (LOIs) submitted by Principal Investigators (PIs) must be received no later than 5 p.m. Eastern Daylight Time (EDT) on 31 July 2008. LOIs received after the deadline will not be reviewed, but in such cases PIs are still permitted to submit a full proposal. Response letters will be sent from NOAA no later than 22 September 2008. Full proposals must be received no later than 5 p.m. Eastern Daylight Time (EDT) on 30 October 2008. Full proposals received after the deadline will not be considered for funding.

Address for Submitting Proposals: Letters of Intent (LOs) should be submitted to the JHT Director—Dr. Jiann-Gwo Jiing—preferably by e-mail at: Jiann-Gwo.Jiing@noaa.gov. Those without e-mail access should send a printed copy to: Dr. Jiann-Gwo Jiing, Director, Joint Hurricane Testbed, Tropical Prediction Center, 11691 SW. 17th Street, Miami, FL 33165. Full proposal packages must be submitted through the www.grants.gov Web site. For those without Internet access or for federal agency submissions, hard copy proposal packages with original signatures should be addressed to Dorothy Fryar, DOC/NOAA, Office of Weather & Air Quality Research, Routing Code R/WA, 1315 East-West Highway, Room 11209, Silver Spring, MD 20910. Ms. Fryar's phone number is 301-734-1179.

Information Contacts: Please visit the Joint Hurricane Testbed Web site for further information at: http://www.nhc.noaa.gov/jht/index.shtml or contact Dr. Jiann-Gwo Jiing, Director, Joint Hurricane Testbed, Tropical Prediction Center, 11691 SW. 17th Street, Miami, FL 33165, phone (305) 229-4443, or via e-mail at Jiann-Gwo.Jiing@noaa.gov. Any technical questions addressed by Dr. Jiing (or his authorized representative) about this JHT funding opportunity and the answers will be posted on the JHT Web site.

Eligibility: Eligible applicants are institutions of higher education; other nonprofits; commercial organizations; foreign governments; organizations under the jurisdiction of foreign governments; international organizations; state, local and Indian tribal governments; and Federal agencies. Applications from non-Federal and Federal applicants will be competed against each other.

Cost Sharing Requirements: No cost sharing is required under this program.

Intergovernmental Review: Applications under this program are not subject to Executive Order 12372, “Intergovernmental Review of Federal Programs.”

6. FY 2009 Ocean Exploration Omnibus—Education

Summary Description: In prior years, OE has funded the development of educational products to enable teachers to bring NOAA science into classrooms throughout the country. With this announcement, OE is seeking proposals that will facilitate the use of NOAA science in formal and informal education environments by extending the use of existing OE education products, located on its Web site http://oceanexplorer.noaa.gov, in school districts and other learning centers throughout the country. OE is seeking pre-proposals and full proposals to support its mission, consistent with NOAA's Strategic Plan (http://www.nrc.noaa.gov), to further ocean science education and ocean literacy. It is anticipated that a total of approximately $300,000 will be available through this Ocean Exploration Education announcement. Only ocean education proposals will be funded, any other kind of project will not be reviewed. Applicants are encouraged to visit the Ocean Explorer Web site (http://www.oceanexplorer.noaa.gov) to familiarize themselves with past and present OE-funded activities.

Funding Availability: In anticipation of the FY09 President's Budget, OE anticipates a total of approximately $300,000 will be available through this Ocean Exploration Education announcement. Depending on the quality and quantity of proposals received, a minimum of six projects are expected to be funded, resulting in an average award level of approximately $50,000. The OE Director may hold-over select proposals submitted for 2009 funding for consideration in 2010. The amount of funding available through this announcement is subject to the final FY09 appropriation for Ocean Exploration. Publication of this announcement does not obligate NOAA to fund any specific project or to obligate all or any part of available funds. There is no guarantee that sufficient funds will be available to initiate or continue research activities where funding has been recommended by OE. The exact amount of funds that OE may recommend be granted will be determined in pre-award negotiations between the applicant and NOAA representatives. Future opportunities for submitting proposals may be available and will depend on OE funding levels.

Statutory Authority: 33 U.S.C. 883d.

Catalog of Federal Domestic Assistance (CFDA) Number: 11.460, Special Oceanic and Atmospheric Projects.

Application Deadline: Completed pre-proposals are required for all categories and must be received by 5 p.m. (EDT) on August 29, 2008. Full proposal submissions must be received by 5 p.m. (EDT) on October 21, 2008. Applications received after the above deadlines will not be considered.

Address for Submitting Proposals: Pre-proposal submissions can be either by e-mail (preferred, send to (OAR.OE.FAQ@noaa.gov) or by hard-copy (see address below). If by e-mail, please put your last name in the subject heading along with the words OE Pre-proposal, e.g., “Smith OE Pre-proposal.” Adobe PDF format is preferred. No facsimile pre-proposals will be accepted. Full proposal submissions must be through Grants.gov, except for those non-Federal applicants without Internet access and Federal applicants, who may submit hard copies to ATTN: Dr. Nicolas Alvarado, Proposal Manager, NOAA Office of Ocean Exploration & Research, SSMC3, 10th Floor, 1315 East-West Highway, Silver Spring, Maryland 20910. (see Address below.) No e-mail or facsimile proposal submissions will be accepted.

Information Contacts: For further information contact the NOAA Office of Ocean Exploration at (301) 734-1015 or submit inquiries via e-mail to the Frequently Asked Questions address: OAR.OE.FAQ@noaa.gov.; e-mail inquiries should include the Principal Investigator's name in the subject heading. Inquiries can be mailed to: ATTN: Dr. Nicolas Alvarado, NOAA Office of Ocean Exploration, 1315 East-West Highway, SSMC3, 10th Floor, Silver Spring, Maryland 20910.

Eligibility: Eligible applicants are institutions of higher education; other nonprofits; commercial organizations; foreign governments; organizations under the jurisdiction of foreign governments; international organizations; state, local and Indian tribal governments; and Federal agencies. PLEASE NOTE: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: Cost-sharing is not required.

Intergovernmental Review: Applications under this program are subject to Executive Order 12372, “Intergovernmental Review of Federal Programs.” Applicants must contact their State's Single Point of Contact (SPOC) to find out about and comply with the State's process under EO 12372. The names and addresses of the SPOC's are listed in the Office of Management and Budget's Web site: http://www.whitehouse.gov/omb/grants/spoc.html.

7. FY 2009 Ocean Exploration Omnibus—Marine Archaeology

Summary Description: Proposals for exploration and discovery of significant maritime heritage sites are the priority. Submerged, previously subaerial, landscapes, shipwrecks, and other maritime cultural sites are typical focus subjects of the program. Proposals will emphasize the early phases of field archaeology: searching, locating, evaluating or inventorying sites. This Announcement does not invite proposals to support later phases of archaeological research, such as intensive site excavations, and major conservation projects. All applicants must convincingly describe: The archaeological significance of their site(s), and their importance to human history; how their research fits within the realm of exploration; why their methodologies are innovative and make the most economical use of current marine technology. OE is seeking pre-proposals and full proposals to support its mission, consistent with NOAA's Strategic Plan (http://www.nrc.noaa.gov), to search, investigate, and document marine archaeological resources. OE is seeking proposals for exploration and discovery of significant maritime heritage sites, including submerged, previously subaerial, landscapes, shipwrecks, aircraft, and other maritime cultural sites. Competitive OE proposals will be bold, innovative and interdisciplinary in their approach and objectives. Proposals will emphasize the early phases of field archaeology: searching, locating, evaluating or inventorying sites. Marine Archaeology projects may be conducted in any of the world's oceans, coasts or Great Lakes regions, on any suitable platform, vessel or other charter. It is anticipated that a total of approximately $400,000 will be available through this announcement. Only marine archaeology proposals will be funded. Any other kind of project will not be reviewed. Applicants are encouraged to visit the Ocean Explorer Web site (http://www.oceanexplorer.noaa.gov) to familiarize themselves with past and present OE-funded activities. Background on how to apply and the required proposal cover sheets are accessible through the OE Office Web site at http://www.explore.noaa.gov/opportunity/welcome.html. The program priorities for this opportunity support NOAAs mission support goal of: Ecosystems—Protect, Restore, and Manage Use of Coastal and Ocean Resources through Ecosystem-Based Management. Full proposal submissions for non-Federal applicants must be submitted through Grants.gov. Federal applicants or applicants without Internet access may submit hard-copies to: ATTN: Dr. Nicolas Alvarado, Proposal Manager, NOAA Office of Ocean Exploration & Research, SSMC III, 10th Floor, 1315 East-West Highway, Silver Spring, MD 20910. No E-mail or facsimile full proposal submissions will be accepted.

Funding Availability: In anticipation of the FY09 President's Budget, OE anticipates a total of approximately $400,000 will be available through this announcement for Marine Archaeology. OE anticipates supporting approximately four awards through this solicitation, averaging $100,000. The OE Director may hold-over select proposals submitted for 2009 funding for consideration in 2010. The amount of funding available through this announcement is subject to the final FY09 appropriation for Ocean Exploration. Publication of this announcement does not obligate NOAA to fund any specific project or to obligate all or any part of available funds. There is no guarantee that sufficient funds will be available to initiate or continue research activities where funding has been recommended by OE. The exact amount of funds that OE may recommend be granted will be determined in pre-award negotiations between the applicant and NOAA representatives. Future opportunities for submitting proposals may be available and will depend on OE funding levels.

Statutory Authority: 33 U.S.C. 883d.

Catalog of Federal Domestic Assistance (CFDA) Number: 11.460, Special Oceanic and Atmospheric Projects.

Application Deadline: Completed pre-proposals are required for all categories and must be received by 5 p.m. (EDT) on August 29, 2008. Full proposal submissions must be received by 5 p.m. (EDT) on October 21, 2008. Applications received after the above deadlines will not be considered.

Address for Submitting Proposals: Pre-proposal submissions can be either by E-mail (preferred, send to OAR.OE.FAQ@noaa.gov) or by hard-copy (send three copies to the mailing address below). If by E-mail, please put your last name in the subject heading along with the words OER Pre-proposal, e.g., “Smith OER Pre-proposal.” Adobe PDF format is preferred. No facsimile pre-proposals will be accepted. Full proposal submissions for non-Federal applicants must be submitted through Grants.gov. Federal applicants or applicants without Internet access may submit hard-copies to: ATTN: Dr. Nicolas Alvarado, Proposal Manager, NOAA Office of Ocean Exploration & Research, SSMC III, 10th Floor, 1315 East-West Highway, Silver Spring, MD 20910. No E-mail or facsimile full proposal submissions will be accepted.

Information Contacts: For further information contact the NOAA Office of Ocean Exploration at (301) 734-1015 or submit inquiries via E-mail to the Frequently Asked Questions address: oar.oe.FAQ@noaa.gov.; E-mail inquiries should include the Principal Investigator's name in the subject heading. Inquiries can be mailed to ATTN: Dr. Nicolas Alvarado (Proposal Manager), NOAA Office of Ocean Exploration, 1315 East-West Highway, SSMC3, 10th Floor, Silver Spring, MD 20910.

Eligibility: Eligible applicants are institutions of higher education; other nonprofits; commercial organizations; foreign governments; organizations under the jurisdiction of foreign governments; international organizations; state, local and Indian tribal governments; and Federal agencies. PLEASE NOTE: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: Cost-sharing is not required.

Intergovernmental Review: Applications under this program are subject to Executive Order 12372, “Intergovernmental Review of Federal Programs.” Applicants must contact their State's Single Point of Contact (SPOC) to find out about and comply with the State's process under EO 12372. The names and addresses of the SPOC's are listed in the Office of Management and Budget's Web site: http://www.whitehouse.gov/omb/grants/spoc.html.

8. FY 2009 Ocean Exploration Omnibus—Ocean Exploration

Summary Description: OE is seeking pre-proposals and full proposals to support its mission, consistent with NOAA's Strategic Plan (http://www.nrc.noaa.gov), to search, investigate, and document poorly-known and unknown areas of the ocean and Great Lakes through interdisciplinary exploration, and to advance and disseminate knowledge of the ocean environment and its physical, chemical, and biological resources. Competitive OE proposals will be bold, innovative and interdisciplinary in their approach to Ocean Exploration. NOAA OE anticipates a total of approximately $1,400,000 including costs for ship and submersible assets will be available through this announcement. Only exploratory proposals will be funded, any other kind of project will not be reviewed. Applicants are encouraged to visit the Ocean Explorer Web site (http://www.oceanexplorer.noaa.gov) to familiarize themselves with past and present OE-funded activities. Background on how to apply and the required proposal cover sheets are accessible through the OE Office Web site at http://www.explore.noaa.gov. The program priorities for this opportunity support NOAA's mission support goal of: Ecosystems—Protect, Restore, and Manage Use of Coastal and Ocean Resources through Ecosystem-Based Management. Pre-proposal submissions can be either by E-mail (preferred, send to OAR.OE.FAQ@noaa.gov or by hard-copy (send three copies to the mailing address below). If by E-mail, please put your last name in the subject heading along with the words OER Pre-proposal, e.g., “Smith OER Pre-proposal.” Adobe PDF format is preferred. No facsimile pre-proposals will be accepted. Full proposal submissions for non-Federal applicants must be submitted through Grants.gov. Federal applicants or applicants without Internet access may submit hard-copies to: ATTN: Dr. Nicolas Alvarado, Proposal Manager, NOAA Office of Ocean Exploration & Research, SSMC III, 10th Floor, 1315 East-West Highway, Silver Spring, Maryland 20910. No E-mail or facsimile full proposal submissions will be accepted.

Funding Availability: In anticipation of the FY09 President's Budget, OE anticipates a total of approximately $1,400,000 will be available through this announcement. Depending on the quality and quantity of proposals received, OE anticipates supporting approximately 4 awards through this solicitation, resulting in an average award level of approximately $350,000. The OE Director may hold-over select proposals submitted for 2009 funding for consideration in 2010. The amount of funding available through this announcement is subject to the final FY09 appropriation for Ocean Exploration. Publication of this announcement does not obligate NOAA to fund any specific project or to obligate all or any part of available funds. There is no guarantee that sufficient funds will be available to initiate or continue research activities where funding has been recommended by OE. The exact amount of funds that OE may recommend be granted will be determined in pre-award negotiations between the applicant and NOAA representatives. Future opportunities for submitting proposals may be available and will depend on OE funding levels.

Statutory Authority: 33 U.S.C. 883d.

Catalog of Federal Domestic Assistance (CFDA) Number: 11.460, Special Oceanic and Atmospheric Projects.

Application Deadline: Completed pre-proposals are required for all categories and must be received by 5 p.m. (EDT) on August 29, 2008. Full proposal submissions must be received by 5 p.m. (EDT) on October 21, 2008. Applications received after the above deadlines will not be considered.

Address for Submitting Proposals: Pre-proposal submissions can be either by E-mail (preferred, send to OAR.OE.FAQ@noaa.gov or by hard-copy (send three copies to the mailing address below). If by E-mail, please put your last name in the subject heading along with the words OER Pre-proposal, e.g., “Smith OER Pre-proposal.” Adobe PDF format is preferred. No facsimile pre-proposals will be accepted. Full proposal submissions for non-Federal applicants must be submitted through Grants.gov. Federal applicants or applicants without Internet access may submit hard-copies to: ATTN: Dr. Nicolas Alvarado, Proposal Manager, NOAA Office of Ocean Exploration & Research, SSMC III, 10th Floor, 1315 East-West Highway, Silver Spring, Maryland 20910. No E-mail or facsimile full proposal submissions will be accepted.

Information Contacts: For further information contact the NOAA Office of Ocean Exploration at (301) 734-1015 or submit inquiries via E-mail to the Frequently Asked Questions address: OAR.OE.FAQ@noaa.gov. E-mail inquiries should include the Principal Investigator's name in the subject heading. Inquiries can be mailed to: ATTN: Dr. Nicolas Alvarado (Proposal Manager) NOAA Office of Ocean Exploration 1315 East-West Highway SSMC3, 10th Floor, Silver Spring, Maryland 20910.

Eligibility: Eligible applicants are institutions of higher education; other nonprofits; commercial organizations; foreign governments; organizations under the jurisdiction of foreign governments; international organizations; state, local and Indian tribal governments; and Federal agencies. PLEASE NOTE: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: Cost-sharing is not required.

Intergovernmental Review: Applications under this program are subject to Executive Order 12372, “Intergovernmental Review of Federal Programs.” Applicants must contact their State's Single Point of Contact (SPOC) to find out about and comply with the State's process under EO 12372. The names and addresses of the SPOC's are listed in the Office of Management and Budget's Web site: http://www.whitehouse.gov/omb/grants/spoc.html.

IV. NOAA Non-Competitive Project

The following entry provides the description and requirements of NOAA's noncompetitive project.

1. NOAA Coral Reef Conservation Grant Program—Coral Reef Ecosystem Research Grants

Summary Description: The NOAA Coral Reef Conservation Grant Program announces that it is providing funding to the NOAA Undersea Research Program (NURP) Centers for: the Southeastern U.S., Florida, and Gulf of Mexico Region, the Southeast U.S. and Gulf of Mexico Center; and the Hawaii and Western Pacific Region, the Hawaii Undersea Research Laboratory, to administer two external, competitive coral reef ecosystem research grants programs. Research supported through these programs will address priority information needs identified by coral reef ecosystem managers and scientists. Broad coral reef research priorities supported through these programs may include research on coral disease and bleaching, fisheries population dynamics and ecology, coral reef restoration and mitigation approaches, effects of anthropogenic stressors on benthic invertebrates, impacts and spread of invasive species, and evaluation of management actions and strategies. Specific priorities within these broad areas, and geographic preferences, will be indicated in each NURP Center's request for proposals. The NURP Center external coral reef research grants programs are part of the NOAA Coral Reef Conservation Grants Program under the Coral Reef Conservation Act of 2000. The program priorities for this opportunity support NOAA's mission support goal of: Ecosystems—Protect, Restore, and Manage Use of Coastal and Ocean Resources through Ecosystem-Based Management.

Funding Availabilty: Approximately $600,000 may be available in FY 2009 to support awards under this program.

Statutory Authority: Statutory authority for this program is provided under 16 U.S.C. 6403.

Catalog of Federal Domestic Assistance (CFDA) Number: 11.430, National Undersea Research Program.

Information Contact: Kimberly Puglise, 301-734-1007 or E-mail at kimberly.puglise@noaa.gov. Announcements requesting proposals will be announced on: http://www.uncw.edu/nurc, for the NURP Center for the Southeastern U.S. and the Gulf of Mexico; on http://www.soest.hawaii.edu/HURL, for the NURP Center for Hawaii and the Western Pacific, the Hawaii Undersea Research Laboratory.

Cost Sharing Requirements: The awards require a 1:1 federal to non-federal match.

Intergovernmental Review: Applications under this program are not subject to Executive Order 12372, “Intergovernmental Review of Federal Programs.”

Limitation of Liability

Funding for programs listed in this notice is contingent upon the availability of Fiscal Year 2009 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (67 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216—6—TOC.pdf, NEPA Questionnaire, http://www.nepa.noaa.gov/questionnaire.pdf, and the Council on Environmental Quality implementation regulations, http://ceq.eh.doe.gov/nepa/regs/ceq/toc— ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export

Administration Regulations (a) This clause applies to the extent that this financial assistance award involves access to export-controlled information or technology. (b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology. (c) Definitions (1) Deemed export. The Export Administration Regulations (EAR) define a deemed export as any release of technology or source code subject to the EAR to a foreign national, both in the United States and abroad. Such release is “deemed” to be an export to the home country of the foreign national. 15 CFR 734.2(b)(2)(ii). (2) Export-controlled information and technology. Export-controlled information and technology is information and technology subject to the EAR (15 CFR parts 730 et seq.), implemented by the DOC Bureau of Industry and Security, or the International Traffic I Arms Regulations (ITAR) (22 CFR parts 120-130), implemented by the Department of State, respectively. This includes, but is not limited to, dual-us items, defense articles and any related assistance, services, software or technical data as defined in the EAR and ITAR. (d) The recipient shall control access to all export-controlled information and technology that it possesses or that comes into its possession in performance of a financial assistance award, to ensure that access is restricted, or licensed, as required by applicable Federal laws, Executive Orders, and/or regulations. (e) Nothing in the terms of this financial assistance award is intended to change, supersede, or waive and of the requirements of applicable Federal laws, Executive Orders or regulations. (f) The recipient shall include this clause, including this paragraph (f), in all lower tier transactions (subawards, contracts, and subcontracts) under the financial assistance award that may involve access to export-controlled information technology.

NOAA implementation of Homeland Security Presidential Directive—12

If the performance of a financial assistance award, if approved by NOAA, requires recipients to have physical access to Federal premises for more than 180 days or access to a Federal information system, any items or services delivered under a financial assistance award shall comply with the Department of Commerce personal identity verification procedures that implement Homeland Security Presidential Directive—12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements.

The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424, 424A, 424B, 424C, 424D, and SF-LLL has been approved by OMB under the respective control numbers 4040-0004, 0348-0044, 4040-0007, 0348-0041, 4040-0009, and 0348-0046. Notwithstanding any other provision of law, no person is required to respond to, nor shall any person be subject to a penalty for failure to comply with, a collection of information subject to the requirements of the PRA unless that collection of information displays a currently valid OMB control number.

Executive Order 12866

This notice has been determined to be not significant for purposes of Executive Order 12866. Executive Order 13132 (Federalism). It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 3, 2008.
Dan Clever,
Deputy Director, Acquisition and Grants Office, National Oceanic and Atmospheric Administration.

[FR Doc. E8-15720 Filed 7-10-08; 8:45 am]

BILLING CODE 3510-PJ-P